DEPARTMENT OF HOUSING AND URBAN DEVELOPMENT

[Docket No. FR-5125-N-09]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, U.S. Coast Guard, Attn: Teresa Sheinberg, 2100 Second St., SW., Rm 6109, Washington, DC 20593-0001; (202) 267-6142; Energy: Mr. John Watson, Department of Energy, Office of Engineering & Construction Management, ME-90, 1000 Independence Ave., SW., Washington, DC 20585: (202) 586-0072; GSA: Mr. John E.B. Smith, Deputy Assistant Commissioner, General Services Administration, Office of Property Disposal, 18th and F Streets, NW., Washington, DC 20405; (202) 501-0084; Interior: Ms. Linda Tribby, Acquisition & Property Management, Department of the Interior, 1849 C Street, NW., MS5512, Washington, DC 20240; (202) 513-0747; Navy: Mr. Warren Meekins, Associate Director, Department of the Navy, Real Estate Services, Naval Facilities Engineering Command, Washington Navy Yard, 1322 Patterson Ave., SE., Suite 1000, Washington, DC 20374-5065; (202) 685-9305; VA: Mr. George L. Szwarcman, Acting Director, Real Property Service (183C), Department of Veterans Affairs, 811 Vermont Avenue, NW., Room 555, Washington, DC 20420; (202) 565-5398; (These are not toll-free numbers).

Dated: February 23, 2007.
Mark R. Johnston,
Deputy Assistant Secretary for Special Needs.

Title V, Federal Surplus Property Program Federal Register Report for 03/02/2007

02/23/2007

Suitable/Available Properties

Building

Alaska

Tract 02-112

Legends of the Mountain, NW Fifth Ave.

Seward AK 99664

Landholding Agency: Interior

Property Number: 61200620001

Status: Unutilized

Comments: 6982 sq. ft., most recent use—restaurant/bar, off-site use only

Tract 02-114

Harbor Dinner Club

220 Fifth Ave., Seward AK 99664

Landholding Agency: Interior

Property Number: 61200620002

Status: Unutilized

Comments: 5604 sq. ft., presence of asbestos/lead paint, most recent use—restaurant/bar, off-site use only

Tract 02-115

Old Solly's

Washington St., Seward AK 99664

Landholding Agency: Interior

Property Number: 61200620003

Status: Unutilized

Comments: 7392 sq. ft., presence of asbestos/lead paint, most recent use—gift shop/offices/bar/apts., off-site use only

Suitable/Available Properties

Building

California

Trailers 288, 289, 290, 293

Stanford Linear Accelerator Center

Menlo Park Co: San Mateo CA 94025

Landholding Agency: Energy

Property Number: 41200630006

Status: Excess

Comments: various sq. ft., presence of asbestos, most recent use—office, need significant repair, off-site use only

Colorado

Bldg. 2

VAMC

2121 North Avenue

Grand Junction Co: Mesa CO 81501

Landholding Agency: VA

Property Number: 97200430001

Status: Unutilized

Comments: 3298 sq. ft., needs major rehab, presence of asbestos/lead paint

Bldg. 3

VAMC

2121 North Avenue

Grand Junction Co: Mesa CO 81501

Landholding Agency: VA

Property Number: 97200430002

Status: Unutilized

Comments: 7275 sq. ft., needs major rehab, presence of asbestos/lead paint

Suitable/Available Properties

Building

Idaho

Federal Building

205 North 4th Street, Coeur d'Alene ID 83814

Landholding Agency: GSA

Property Number: 54200710009

Status: Excess

GSA Number: 9-G-ID-559

Comments: 24,490 sq. ft., presence of asbestos/lead paint, currently leased for up to 2 years

Illinois

Bldg. 912

Naval Station

Great Lakes IL 60088

Landholding Agency: Navy

Property Number: 77200640030

Status: Excess

Comments: 12,000 sq. ft., tailor shop, needs major repairs, presence of asbestos/lead paint, off-site use only

Indiana

Bldg. 105, VAMC

East 38th Street

Marion Co: Grant IN 46952

Landholding Agency: VA

Property Number: 97199230006

Status: Excess

Comments: 310 sq. ft., 1 story stone structure, no sanitary or heating facilities, Natl Register of Historic Places

Suitable/Available Properties

Building

Indiana

Bldg. 140, VAMC

East 38th Street

Marion Co: Grant IN 46952

Landholding Agency: VA

Property Number: 97199230007

Status: Excess

Comments: 60 sq. ft., concrete block bldg., most recent use—trash house

Bldg. 7

VA Northern Indiana Health Care System

Marion Campus, 1700 East 38th Street

Marion Co: Grant IN 46953

Landholding Agency: VA

Property Number: 97199810001

Status: Underutilized

Comments: 16,864 sq. ft., presence of asbestos, most recent use—psychiatric ward, National Register of Historic Places

Bldg. 10

VA Northern Indiana Health Care System

Marion Campus, 1700 East 38th Street

Marion Co: Grant IN 46953

Landholding Agency: VA

Property Number: 97199810002

Status: Underutilized

Comments: 16,361 sq. ft., presence of asbestos, most recent use—psychiatric ward, National Register of Historic Places

Suitable/Available Properties

Building

Indiana

Bldg. 11

VA Northern Indiana Health Care System

Marion Campus, 1700 East 38th Street

Marion Co: Grant IN 46953

Landholding Agency: VA

Property Number: 97199810003

Status: Underutilized

Comments: 16,361 sq. ft., presence of asbestos, most recent use—psychiatric ward, National Register of Historic Places

Bldg. 18

VA Northern Indiana Health Care System

Marion Campus, 1700 East 38th Street

Marion Co: Grant IN 46953

Landholding Agency: VA

Property Number: 97199810004

Status: Underutilized

Comments: 13,802 sq. ft., presence of asbestos, most recent use—psychiatric ward, National Register of Historic Places

Bldg. 25

VA Northern Indiana Health Care System

Marion Campus, 1700 East 38th Street

Marion Co: Grant IN 46953

Landholding Agency: VA

Property Number: 97199810005

Status: Unutilized

Comments: 32,892 sq. ft., presence of asbestos, most recent use—psychiatric ward, National Register of Historic Places

Suitable/Available Properties

Building

Indiana

Bldg. 1

N. Indiana Health Care System

Marion Co: Grant IN 46952

Landholding Agency: VA

Property Number: 97200310001

Status: Unutilized

Comments: 20,287 sq. ft., needs extensive repairs, presence of asbestos, most recent use—patient ward

Bldg. 3

N. Indiana Health Care System

Marion Co: Grant IN 46952

Landholding Agency: VA

Property Number: 97200310002

Status: Unutilized

Comments: 20,550 sq. ft., needs extensive repairs, presence of asbestos, most recent use—patient ward

Bldg. 4

N. Indiana Health Care System

Marion Co: Grant IN 46952

Landholding Agency: VA

Property Number: 97200310003

Status: Unutilized

Comments: 20,550 sq. ft., needs extensive repairs, presence of asbestos, most recent use—patient ward

Bldg. 13

N. Indiana Health Care System

Marion Co: Grant IN 46952

Landholding Agency: VA

Property Number: 97200310004

Status: Unutilized

Comments: 8971 sq. ft., needs extensive repairs, presence of asbestos, most recent use—office

Suitable/Available Properties

Building

Indiana

Bldg. 19

N. Indiana Health Care System

Marion Co: Grant IN 46952

Landholding Agency: VA

Property Number: 97200310005

Status: Unutilized

Comments: 12,237 sq. ft., needs extensive repairs, presence of asbestos, most recent use—office

Bldg. 20

N. Indiana Health Care System

Marion Co: Grant IN 46952

Landholding Agency: VA

Property Number: 97200310006

Status: Unutilized

Comments: 14,039 sq. ft., needs extensive repairs, presence of asbestos, most recent use—office/storage

Bldg. 42

N. Indiana Health Care System

Marion Co: Grant IN 46952

Landholding Agency: VA

Property Number: 97200310007

Status: Unutilized

Comments: 5025 sq. ft., needs extensive repairs, presence of asbestos, most recent use—office

Bldg. 60

N. Indiana Health Care System

Marion Co: Grant IN 46952

Landholding Agency: VA

Property Number: 97200310008

Status: Unutilized

Comments: 18,126 sq. ft., needs extensive repairs, presence of asbestos, most recent use—office

Suitable/Available Properties

Building

Indiana

Bldg. 122

N. Indiana Health Care System

Marion Co: Grant IN 46952

Landholding Agency: VA

Property Number: 97200310009

Status: Unutilized

Comments: 37,135 sq. ft., needs extensive repairs, presence of asbestos, most recent use—dining hall/kitchen

New York

Bldg. 3

VA Medical Center

Batavia Co: Genesee NY 14020

Landholding Agency: VA

Property Number: 97200520001

Status: Unutilized

Comments: 5840 sq. ft., needs rehab, presence of asbestos, most recent use—offices, eligible for Natl Register of Historic Places

Ohio

Bldg. 402

VA Medical Center

Dayton Co: Montgomery OH 45428

Landholding Agency: VA

Property Number: 97199920004

Status: Unutilized

Comments: 4 floors, potential utilities, needs major rehab, presence of asbestos/lead paint, historic property

Suitable/Available Properties

Building

Oklahoma

Bldg.

Foss Reservoir Master Conservancy

Clinton Co: Custer OK 73601

Landholding Agency: Interior

Property Number: 61200640002

Status: Excess

Directions:

635 North 6th Street

Comments: 1200 sq. ft., most recent use—storage/office, not ADA accessible

Texas

Water Tower

Lake Meredith Natl Rec Area

Fritch Co: Hutchinson TX 79036

Landholding Agency: Interior

Property Number: 61200510002

Status: Unutilized

Comments: off-site use only

Washington

Bldg. 87

Yakima Project

1917 Marsh Road

Yakima WA 98901

Landholding Agency: Interior

Property Number: 61200630013

Status: Excess

Comments: 1032 sq. ft., presence of asbestos/lead paint, most recent use—office, off-site use only

Suitable/Available Properties

Building

Washington

Bldg. 88

Yakima Project

1917 Marsh Project

Yakima WA 98901

Landholding Agency: Interior

Property Number: 61200630014

Status: Excess

Comments: 1032 sq. ft., presence of asbestos/lead paint, most recent use—office, off-site use only

Bldg. 127

Yakima Project

1917 Marsh Road

Yakima WA 98901

Landholding Agency: Interior

Property Number: 61200630015

Status: Excess

Comments: 1152 sq. ft., most recent use—office, off-site use only

Bldg. 133

Yakima Project

1917 Marsh Road

Yakima WA 98901

Landholding Agency: Interior

Property Number: 61200630016

Status: Excess

Comments: 1680 sq. ft., most recent use—office, off-site use only

Suitable/Available Properties

Building

Wisconsin

Bldg. 8

VA Medical Center

County Highway E

Tomah Co: Monroe WI 54660

Landholding Agency: VA

Property Number: 97199010056

Status: Underutilized

Comments: 2200 sq. ft., 2-story wood frame, possible asbestos, potential utilities, structural deficiencies, needs rehab.

Land

Alabama

VA Medical Center

VAMC

Tuskegee Co: Macon AL 36083

Landholding Agency: VA

Property Number: 97199010053

Status: Underutilized

Comments: 40 acres, buffer to VA Medical Center, potential utilities, undeveloped.

Arizona

2.0 acres

Tract No. DB-2-77

I-19 off ramp

Tucson AZ

Landholding Agency: Interior

Property Number: 61200630006

Status: Excess

Comments: 2.0 acres, Del Bac Substation Site

Suitable/Available Properties

Land

California

Land

4150 Clement Street

San Francisco Co: San Francisco CA 94121

Landholding Agency: VA

Property Number: 97199240001

Status: Underutilized

Comments: 4 acres; landslide area.

Illinois

FAA Radar Communications

Link Repeater Site

11000 E Road

Momence IL 60954

Landholding Agency: GSA

Property Number: 54200710010

Status: Excess

GSA Number: 1-U-IL-0695

Comments: 3 acres, access to property via easement through adjacent landowner property

Iowa

40.66 acres

VA Medical Center

1515 West Pleasant St., Knoxville Co: Marion IA 50138

Landholding Agency: VA

Property Number: 97199740002

Status: Unutilized

Comments: golf course, easement requirements

Suitable/Available Properties

Land

New York

Youngstown Test Annex

Porter Center Road, Porter NY 14174-0189

Landholding Agency: GSA

Property Number: 54200620004

Status: Surplus

GSA Number: 1-D-NY-0879-1A

Comments: 98.62 overgrown acres with 6 deteriorated buildings, abuts an industrial waste treatment facility

Land

Texas

Olin E. Teague Veterans Center

1901 South 1st Street

Temple Co: Bell TX 76504

Landholding Agency: VA

Property Number: 97199010079

Status: Underutilized

Comments: 13 acres, portion formerly landfill, portion near flammable materials, railroad crosses property, potential utilities.

Wisconsin

VA Medical Center

County Highway E

Tomah Co: Monroe WI 54660

Landholding Agency: VA

Property Number: 97199010054

Status: Underutilized

Comments: 12.4 acres, serves as buffer between center and private property, no utilities.

Summary for Suitable/Available Properties = Total number of Properties 44

Suitable/Unavailable Properties

Building

California

Social Security Building

505 North Court Street

Visalia Co: Tulare CA 93291

Landholding Agency: GSA

Property Number: 54200610010

Status: Surplus

GSA Number: 9-G-CA-1643

Comments: 11,727 sq. ft., possible lead paint, most recent use—office

Colorado

Federal Building

1520 E. Willamette St., Colorado Springs Co: El Paso CO 80909

Landholding Agency: GSA

Property Number: 54200640004

Status: Excess

GSA Number: 7-G-CO-0660

Comments: 50,363 sq. ft., needs major rehab., available in approx. 24 months, legal constraints

Idaho

Bldg. CFA-613

Central Facilities Area

Idaho National Engineering Lab

Scoville Co: Butte ID 83415

Landholding Agency: Energy

Property Number: 41199630001

Status: Unutilized

Comments: 1219 sq. ft., most recent use—sleeping quarters, presence of asbestos, off-site use only

Suitable/Unavailable Properties

Building

Indiana

Former SSA

327 W. Marion Street, Elkhart IN 46516

Landholding Agency: GSA

Property Number: 54200630015

Status: Surplus

GSA Number: 1-GR-IN-05962A

Comments: 6636 sq. ft., most recent use—office

Iowa

Federal Bldg./P.O./Courthouse

8 South 6th Street

Council Bluffs Co: Pottawattamie IA 51501

Landholding Agency: GSA

Property Number: 54200640001

Status: Excess

GSA Number: 7-G-IA-0468-1

Comments: 67,298 sq. ft., to be vacant 12/31/08, needs rehab—estimated cost $2 million

Minnesota

Memorial Army Rsv. Ctr.

1804 3rd Avenue

International Falls Co: Koochiching MN 56649

Landholding Agency: GSA

Property Number: 54200620002

Status: Excess

GSA Number: 1-D-MN-586

Comments: 8992 sq. ft., presence of asbestos/lead paint, most recent use—admin./storage.

Suitable /Unavailable Properties

Building

Montana

Border Patrol Station

906 Oilfield Avenue

Shelby Co: Toole MT 59474

Landholding Agency: GSA

Property Number: 54200620010

Status: Excess

GSA Number: 7-Z-MT-0617

Comments: bldg/1944 sq. ft.; garage/650 sq. ft.; shed/175 sq. ft.; potential asbestos/lead paint/radon

VA MT Healthcare

210 S. Winchester

Miles City Co: Custer MT 59301

Landholding Agency: VA

Property Number: 97200030001

Status: Underutilized

Comments: 18 buildings, total sq. ft. = 123,851, presence of asbestos, most recent use—clinic/office/food production

Nevada

Young Fed Bldg/Courthouse

300 Booth Street, Reno NV 89502

Landholding Agency: GSA

Property Number: 54200620014

Status: Surplus

GSA Number: 9-G-NV-529-2

Comments: 85,637 sq. ft. available, presence of asbestos/lead paint, seismic issues

Suitable/Unavailable Properties

Building

New Mexico

Federal Building

517 Gold Avenue, SW

Albuquerque Co: Bernalillo NM 87102

Landholding Agency: GSA

Property Number: 54200540005

Status: Excess

GSA Number: 7-G-NM-0588

Comments: 273,027 sq. ft., 8 floors + basement, top two floors structurally unsafe to occupy, 3 additional floors do not meet local code requirements for occupancy, presence of asbestos/lead paint

Federal Building

1100 New York Ave.

Alamogordo Co: Otero NM 88310

Landholding Agency: GSA

Property Number: 54200630001

Status: Surplus

GSA Number: 7-G-NM-0569

Comments: 12,690 sq. ft., subject to Historic preservation covenants, occupied until 9/30/08

Dwelling #25

Ranger Lane

Cuba Co: Sandoval NM 87013

Landholding Agency: GSA

Property Number: 54200630018

Status: Surplus

GSA Number: 7-A-NM-0590

Comments: 1120 sq. ft., potential hantavirus contamination, off-site use only

Suitable/Unavailable Properties

Building

New Mexico

Infra #30203

Fenton Hill Site, Mora NM 87535

Landholding Agency: GSA

Property Number: 54200630019

Status: Surplus

GSA Number: 7-A-NM-0591

Comments: 194 sq. ft., potential hantavirus contamination, off-site use only

New York

Social Sec. Admin. Bldg.

517 N. Barry St., Olean NY 10278-0004

Landholding Agency: GSA

Property Number: 54200230009

Status: Excess

GSA Number: 1-G-NY-0895

Comments: 9174 sq. ft., poor condition, most recent use—office

Fleet Mgmt. Center

5—32nd Street

Brooklyn NY 11232

Landholding Agency: GSA

Property Number: 54200620015

Status: Surplus

GSA Number: 1-G-NY-0872B

Comments: 12,693 sq. ft., most recent use—motor pool, heavy industrial

Suitable/Unavailable Properties

Building

New York

8 Family Apt. Bldgs.

Watervliet Arsenal Housing

325 Duanesburg Road

Rotterdam Co: Schenectady NY

Landholding Agency: GSA

Property Number: 54200630011

Status: Excess

GSA Number: 1-D-NY-0877

Comments: 8 multi family apt. bldgs. w/garages and 1 maintenance shop, presence of asbestos/lead paint

2 Residential Bldgs.

Watervliet Arsenal Housing

1138, 1134, 1132 North Westcott Rd.

Rotterdam Co: Schenectady NY

Landholding Agency: GSA

Property Number: 54200630012

Status: Excess

GSA Number: 1-D-NY-877

Comments: 2 residential bldgs. (one duplex/one single), each unit has one garage, shared driveway

North Dakota

Residence #1

Hwy 30/Canadian Border

St. John Co: Rolette ND 58369

Landholding Agency: GSA

Property Number: 54200620005

Status: Excess

GSA Number: 7-G-ND-0504

Comments: 1300 sq. ft., possible asbestos/lead paint, off-site use only

Suitable/Unavailable Properties

Building

North Dakota

Residence #2

Hwy 30/Canadian Border

St. John Co: Rolette ND 58369

Landholding Agency: GSA

Property Number: 54200620006

Status: Excess

GSA Number: 7-G-ND-0505

Comments: 1300 sq. ft., possible asbestos/lead paint, off-site use only

Residence #2

Hwy 281/Canadian Border

Dunseith Co: Rolette ND 58329

Landholding Agency: GSA

Property Number: 54200620008

Status: Excess

GSA Number: 7-G-ND-0507

Comments: 1490 sq. ft., attached garage, possible asbestos/lead paint, off-site use only

Residence #3

Hwy 281/Canadian Border

Dunseith Co: Rolette ND 58329

Landholding Agency: GSA

Property Number: 54200620009

Status: Excess

GSA Number: 7-G-ND-0506

Comments: 1490 sq. ft., attached garage, possible asbestos/lead paint, off-site use only

Suitable/Unavailable Properties

Building

North Dakota

Residence #1

Hwy 42/Canadian Border

Ambrose Co: Divide ND 58833

Landholding Agency: GSA

Property Number: 54200620012

Status: Excess

GSA Number: 7-G-ND-0510

Comments: 2010 sq. ft., possible lead paint, most recent use—residential/office/storage, off site use only

Residence #2

Hwy 42/Canadian Border

Ambrose Co: Divide ND 58833

Landholding Agency: GSA

Property Number: 54200620013

Status: Excess

GSA Number: 7-G-ND-0509

Comments: 2010 sq. ft., possible lead paint, most recent use—residential/office/storage, off site use only

Sherwood Garage

Hwy 28

Sherwood Co: Renville ND 58782

Landholding Agency: GSA

Property Number: 54200630002

Status: Surplus

GSA Number: 7-G-ND-0512

Comments: 565 sq. ft., off-site use only

Suitable/Unavailable Properties

Building

North Dakota

Noonan Garage

Hwy 40

Noonan Co: Divide ND 58765

Landholding Agency: GSA

Property Number: 54200630003

Status: Surplus

GSA Number: 7-G-ND-0511

Comments: 520 sq. ft., presence of asbestos, off-site use only

Westhope Garage

Hwy 83

Westhope Co: Bottineau ND 58793

Landholding Agency: GSA

Property Number: 54200630004

Status: Surplus

GSA Number: 7-G-ND-0513

Comments: 515 sq. ft., off-site use only

Ohio

Bldg. 116

VA Medical Center

Dayton Co: Montgomery OH 45428

Landholding Agency: VA

Property Number: 97199920002

Status: Unutilized

Comments: 3 floors, potential utilities, needs major rehab, presence of asbestos/lead paint, historic property

Suitable/Unavailable Properties

Building

Oklahoma

Warehouse 2E

2800 S. Eastern Ave., Oklahoma City OK 73129

Landholding Agency: GSA

Property Number: 54200630005

Status: Surplus

GSA Number: 7-G-OK-0572

Comments: 5618 sq. ft., presence of asbestos/lead paint, most recent use—warehouse, off-site use only

Texas

Bldgs. 5, 6, 7

Federal Center

501 West Felix Street

Ft. Worth Co: Tarrant TX 76115

Landholding Agency: GSA

Property Number: 54200640002

Status: Excess

GSA Number: 7-G-TX-0767-3

Comments: 3 warehouses with concrete foundation, off-site use only

Virginia

142.67 acres/7 Bldgs.

Pepermeir Hill Road

U.S. Geological Survey

Corbin VA 22446

Landholding Agency: GSA

Property Number: 54200630020

Status: Excess

GSA Number: 4-I-VA-0748

Comments: various sq. ft., most recent use—research/development/calibration lab/test measuring circuit

Suitable/Unavailable Properties

Building

Wisconsin

Bldg. 2

VA Medical Center

5000 West National Ave.

Milwaukee WI 53295

Landholding Agency: VA

Property Number: 97199830002

Status: Underutilized

Comments: 133,730 sq. ft., needs rehab, presence of asbestos/lead paint, most recent use—storage

Land

California

Former Outer Marker Facility

215 W. 118th Street

Los Angeles CA 90061

Landholding Agency: GSA

Property Number: 54200630014

Status: Unutilized

GSA Number: 9-U-CA-1614

Comments: 5200 sq. ft./paved

Iowa

38 acres

VA Medical Center

1515 West Pleasant St.

Knoxville Co: Marion IA 50138

Landholding Agency: VA

Property Number: 97199740001

Status: Unutilized

Comments: golf course

Suitable/Unavailable Properties

Land

Kentucky

Tract S-2

3301 Leestown Road

Lexington Co: Fayette KY 40511

Landholding Agency: GSA

Property Number: 54200630016

Status: Excess

GSA Number: 4-J-KY-0622

Comments: 40.2 acres/hayfield, potential of sinkholes, potential contamination from adjacent site

Louisiana

Vacant Land

Former Barksdale AFB Radio Beacon, Bossier City LA

Landholding Agency: GSA

Property Number: 54200640003

Status: Excess

GSA Number: 7-GR-LA-04382

Comments: 11.59 acres, floodplain

Michigan

IOM Site

Chesterfield Road

Chesterfield Co: Macomb MI

Landholding Agency: GSA

Property Number: 54200340008

Status: Excess

GSA Number: 1-D-MI-0603F

Comments: approx. 17.4 acres w/concrete block bldg. in poor condition, most recent use—radio antenna field, narrow right-of-way

Suitable/Unavailable Properties

Land

Michigan

Lots 2-6

Lawndale Park Addition

Ludington Co: Mason MI 49431

Landholding Agency: GSA

Property Number: 54200540007

Status: Excess

GSA Number: 1-G-MI-537-2

Comments: 0.81 acre—undeveloped

VA Medical Center

5500 Armstrong Road

Battle Creek Co: Calhoun MI 49016

Landholding Agency: VA

Property Number: 97199010015

Status: Underutilized

Comments: 20 acres, used as exercise trails and storage areas, potential utilities

New Mexico

Portion/Medical Center

2820 Ridgecrest

Albuquerque Co: Bernalillo NM 87103

Landholding Agency: GSA

Property Number: 54200620003

Status: Unutilized

GSA Number: 7-GR-NM-04212A

Comments: 7.4 acres—vacant land

Suitable/Unavailable Properties

Land

New York

VA Medical Center

Fort Hill Avenue

Canandaigua Co: Ontario NY 14424

Landholding Agency: VA

Property Number: 97199010017

Status: Underutilized

Comments: 27.5 acres, used for school ballfield and parking, existing utilities easements, portion leased

Pennsylvania

18.8 acres

Tract 19

Curwensville Lake Project

Clearfield PA

Landholding Agency: GSA

Property Number: 54200630007

Status: Excess

GSA Number: 4-D-PA-0801

Comments: heavily wooded/undeveloped/limited access

VA Medical Center

New Castle Road

Butler Co: Butler PA 16001

Landholding Agency: VA

Property Number: 97199010016

Status: Underutilized

Comments: Approx. 9.29 acres, used for patient recreation, potential utilities

Suitable/Unavailable Properties

Land

Pennsylvania

Land No. 645

VA. Medical Center

Highland Drive

Pittsburgh Co: Allegheny PA 15206

Landholding Agency: VA

Property Number: 97199010080

Status: Unutilized

Directions: Between Campania and Wiltsie Streets

Comments: 90.3 acres, heavily wooded, property includes dump area and numerous site storm drain outfalls

Land—34.16 acres

VA Medical Center

1400 Black Horse Hill Road

Coatesville Co: Chester PA 19320

Landholding Agency: VA

Property Number: 97199340001

Status: Underutilized

Comments: 34.16 acres, open field, most recent use—recreation/buffer

Tennessee

Army Rsv Training Area

6510 Bonny Oaks Dr.

Chattanooga Co: Hamilton TN 37416

Landholding Agency: GSA

Property Number: 54200630006

Status: Surplus

GSA Number: 4-D-TN-05946A

Comments: 80+ acres, contains 5.6 acre retention pond, easements present, may flood periodically

Suitable/Unavailable Properties

Land

Vermont

Former FAA Middle Marker

Richardson Road

Berlin Corners VT 50053

Landholding Agency: GSA

Property Number: 54200630021

Status: Excess

GSA Number: 1-U-VT-0477

Comments: 0.06 acres and 0.4 in easement, extremely small w/electrical closet Summary for Suitable/Unavailable Properties = Total number of Properties 46

Unsuitable Properties

Building

Alabama

Bldg. 7

VA Medical Center

Tuskegee Co: Macon AL 36083

Landholding Agency: VA

Property Number: 97199730001

Status: Underutilized

Reason: Secured Area

Bldg. 8

VA Medical Center

Tuskegee Co: Macon AL 36083

Landholding Agency: VA

Property Number: 97199730002

Status: Underutilized

Reason: Secured Area

Unsuitable Properties

Building

Alaska

ACS Storage Annex

132-140 E Manor Dr.

Anchorage AK 99501

Landholding Agency: GSA

Property Number: 54200710008

Status: Excess

GSA Number: 9-I-AK-806

Reasons: Extensive deterioration Within 2000 ft. of flammable or explosive material

California

Bldgs. MO3, MO14, MO17

Sandia National Lab

Livermore Co: Alameda CA 94550

Landholding Agency: Energy

Property Number: 41200220001

Status: Excess

Reasons: Extensive deterioration

Bldgs. 9163, 962, 9621

Sandia National Lab

Livermore Co: Alameda CA 94551

Landholding Agency: Energy

Property Number: 41200420001

Status: Unutilized

Reasons: Secured Area

Unsuitable Properties

Building

California

Bldgs. C920, C921, C922

Sandia Natl Laboratories

Livermore Co: Alameda CA 94551

Landholding Agency: Energy

Property Number: 41200540001

Status: Unutilized

Reasons: Extensive deterioration Secured Area

Bldg. 175

Livermore National Lab

Livermore CA

Landholding Agency: Energy

Property Number: 41200630001

Status: Excess

Reasons: Within 2000 ft. of flammable or explosive material, Secured Area

Bldg. 377

Livermore National Lab

Livermore CA

Landholding Agency: Energy

Property Number: 41200630002

Status: Excess

Reasons: Secured Area Within 2000 ft. of flammable or explosive material

Trailer 1403

Livermore National Lab

Livermore CA

Landholding Agency: Energy

Property Number: 41200630003

Status: Excess

Reasons: Within 2000 ft. of flammable or explosive material Secured Area

Unsuitable Properties

Building

California

Trailer 3703

Livermore National Lab

Livermore CA

Landholding Agency: Energy

Property Number: 41200630004

Status: Excess

Reasons: Within 2000 ft. of flammable or explosive material Secured Area

Bldg. 3520

National Laboratory

Livermore CA

Landholding Agency: Energy

Property Number: 41200710003

Status: Excess

Reasons: Within 2000 ft. of flammable or explosive material Secured Area

Bldgs. 4182, 4184, 4187

National Laboratory

Livermore CA

Landholding Agency: Energy

Property Number: 41200710004

Status: Excess

Reasons: Secured Area Within 2000 ft. of flammable or explosive material

Bldg. 5974

National Laboratory

Livermore CA

Landholding Agency: Energy

Property Number: 41200710005

Status: Excess

Reasons: Within 2000 ft. of flammable or explosive material Secured Area

Unsuitable Properties

Building

California

Bldg. 2533

Marine Corps Base

Camp Pendleton CA 92055

Landholding Agency: Navy

Property Number: 77200520005

Status: Excess

Reasons: Extensive deterioration Secured Area

Bldg. 13111

Marine Corps Base

Camp Pendleton CA 92055

Landholding Agency: Navy

Property Number: 77200520006

Status: Excess

Reasons: Extensive deterioration Secured Area

Bldgs. 53325, 53326

Marine Corps Base

Camp Pendleton CA 92055

Landholding Agency: Navy

Property Number: 77200520007

Status: Excess

Reasons: Secured Area Extensive deterioration

Unsuitable Properties

Building

California

5 Bldgs.

Marine Corps Base 53421, 53424 thru 53427

Camp Pendleton CA 92055

Landholding Agency: Navy

Property Number: 77200520008

Status: Excess

Reasons: Extensive deterioration Secured Area

Bldgs. 61311, 61313, 61314

Marine Corps Base

Camp Pendleton CA 92055

Landholding Agency: Navy

Property Number: 77200520009

Status: Excess

Reasons: Secured Area Extensive deterioration

Bldgs. 61320-61324, 61326

Marine Corps Base

Camp Pendleton CA 92055

Landholding Agency: Navy

Property Number: 77200520010

Status: Excess

Reasons: Secured Area Extensive deterioration

Unsuitable Properties

Building

California

Bldgs. 62711 thru 62717

Marine Corps Base

Camp Pendleton CA 92055

Landholding Agency: Navy

Property Number: 77200520011

Status: Excess

Reasons: Extensive deterioration Secured Area

Bldgs. 4

Naval Submarine Base

Point Loma CA

Landholding Agency: Navy

Property Number: 77200520014

Status: Unutilized

Reasons: Extensive deterioration

Bldgs. 8915, 8931

Naval Weapons Station

Seal Beach CA 90740

Landholding Agency: Navy

Property Number: 77200530004

Status: Excess

Reasons: Extensive deterioration

Bldgs. 11, 112

Naval Weapons Station

Seal Beach CA 90740

Landholding Agency: Navy

Property Number: 77200530005

Status: Unutilized

Reasons: Extensive deterioration

Unsuitable Properties

Building

California

Bldg. 805

Naval Weapons Station

Seal Beach CA 90740

Landholding Agency: Navy

Property Number: 77200530006

Status: Unutilized

Reasons: Extensive deterioration

Bldgs. 810 thru 823

Naval Weapons Station

Seal Beach CA 90740

Landholding Agency: Navy

Property Number: 77200530007

Status: Unutilized

Reasons: Extensive deterioration

Bldgs. 851, 859, 864

Naval Weapons Station

Seal Beach CA 90740

Landholding Agency: Navy

Property Number: 77200530008

Status: Unutilized

Reasons: Extensive deterioration

Bldg. 1146

Naval Base

Port Hueneme Co: Ventura CA 93042

Landholding Agency: Navy

Property Number: 77200530009

Status: Unutilized

Reasons: Extensive deterioration

Unsuitable Properties

Building

California

Bldgs. 1370, 1371, 1372

Naval Base

Port Hueneme Co: Ventura CA 93042

Landholding Agency: Navy

Property Number: 77200530011

Status: Unutilized

Reasons: Extensive deterioration

Bldg. 115

Naval Base

San Diego CA

Landholding Agency: Navy

Property Number: 77200530012

Status: Excess

Reasons: Extensive deterioration

Bldg. 1674

Marine Corps Base

Camp Pendleton CA 92055

Landholding Agency: Navy

Property Number: 77200530027

Status: Excess

Reasons: Extensive deterioration Secured Area

Bldgs. 2636, 2651, 2658

Marine Corps Base

Camp Pendleton CA 92055

Landholding Agency: Navy

Property Number: 77200530028

Status: Excess

Reasons: Extensive deterioration Secured Area

Unsuitable Properties

Building

California

4 Bldgs.

Marine Corps Base

Camp Pendleton CA 92055

Landholding Agency: Navy

Property Number: 77200530029

Status: Excess

Directions: 26053, 26054, 26056, 26059

Reasons: Extensive deterioration Secured Area

Bldgs. 53333, 53334

Marine Corps Base

Camp Pendleton CA 92055

Landholding Agency: Navy

Property Number: 77200530030

Status: Excess

Reasons: Extensive deterioration Secured Area

Bldgs. 53507, 53569

Marine Corps Base

Camp Pendleton CA 92055

Landholding Agency: Navy

Property Number: 77200530031

Status: Excess

Reasons: Secured Area Extensive deterioration

Unsuitable Properties

Building

California

Bldg. 170111

Marine Corps Base

Camp Pendleton CA 92055

Landholding Agency: Navy

Property Number: 77200530032

Status: Excess

Reasons: Extensive deterioration Secured Area

Bldg. PM4-3

Naval Base

Oxnard Co: Ventura CA 93042

Landholding Agency: Navy

Property Number: 77200530033

Status: Unutilized

Reasons: Extensive deterioration

Bldg. 1781

Marine Corps Base

Camp Pendleton CA 92055

Landholding Agency: Navy

Property Number: 77200540001

Status: Excess

Reasons:

Secured Area

Extensive deterioration

Bldgs. 398, 399, 404

Naval Base Point Loma

San Diego CA

Landholding Agency: Navy

Property Number: 77200540003

Status: Unutilized

Reasons: Extensive deterioration

Unsuitable Properties

Building

California

Bldgs. 388, 389, 390, 391

Naval Base Point Loma

San Diego CA

Landholding Agency: Navy

Property Number: 77200540004

Status: Unutilized

Reasons: Extensive deterioration

Bldg. 16

Naval Submarine Base

San Diego CA

Landholding Agency: Navy

Property Number: 77200540017

Status: Unutilized

Reasons: Secured Area Extensive deterioration

Within 2000 ft. of flammable or explosive material

Bldg. 325

Naval Base

Port Hueneme Co: Ventura CA 93043

Landholding Agency: Navy

Property Number: 77200610001

Status: Unutilized

Reasons:

Within airport runway clear zone

Secured Area Extensive deterioration

Bldgs. 1647, 1648

Marine Corps Base

Camp Pendleton CA 92055

Landholding Agency: Navy

Property Number: 77200610010

Status: Excess

Reasons: Extensive deterioration

Unsuitable Properties

Building

California

Bldg. 1713

Marine Corps Base

Camp Pendleton CA 92055

Landholding Agency: Navy

Property Number: 77200610011

Status: Excess

Reasons: Extensive deterioration

Bldg. 16171

Marine Corps Base

Camp Pendleton CA 92055

Landholding Agency: Navy

Property Number: 77200610012

Status: Excess

Reasons: Extensive deterioration

Bldg. 2100576

Marine Corps Base

Camp Pendleton CA 92055

Landholding Agency: Navy

Property Number: 77200610013

Status: Excess

Reasons: Extensive deterioration

Bldg. 220189

Marine Corps Base

Camp Pendleton CA 92055

Landholding Agency: Navy

Property Number: 77200610014

Status: Excess

Reasons: Extensive deterioration

Unsuitable Properties

Building

California

Bldg. 2295

Marine Corps Base

Camp Pendleton CA 92055

Landholding Agency: Navy

Property Number: 77200610015

Status: Excess

Reasons: Extensive deterioration

Bldgs. 22115, 22116, 22117

Marine Corps Base

Camp Pendleton CA 92055

Landholding Agency: Navy

Property Number: 77200610016

Status: Excess

Reasons: Extensive deterioration

Bldg. 143

Naval Air Station

Lemoore CA

Landholding Agency: Navy

Property Number: 77200610017

Status: Excess

Reasons: Extensive deterioration

Bldgs. 213, 243, 273

Naval Air Station

Lemoore CA

Landholding Agency: Navy

Property Number: 77200610018

Status: Excess

Reasons: Extensive deterioration

Unsuitable Properties

Building

California

Bldg. 303

Naval Air Station

Lemoore CA

Landholding Agency: Navy

Property Number: 77200610019

Status: Excess

Reasons: Extensive deterioration

Bldg. 471

Naval Air Station

Lemoore CA

Landholding Agency: Navy

Property Number: 77200610020

Status: Excess

Reasons: Extensive deterioration

Bldgs. 979, 928, 930

Naval Air Station

Lemoore CA

Landholding Agency: Navy

Property Number: 77200610021

Status: Excess

Reasons: Extensive deterioration

Bldgs. 999, 1000

Naval Air Station

Lemoore CA

Landholding Agency: Navy

Property Number: 77200610022

Status: Excess

Reasons: Extensive deterioration

Unsuitable Properties

Building

California

Bldgs. 305, 353

Naval Base Point Loma

San Diego CA

Landholding Agency: Navy

Property Number: 77200610023

Status: Unutilized

Reasons: Extensive deterioration

Bldgs. 358, 359, 360, 361

Naval Base Point Loma

San Diego CA

Landholding Agency: Navy

Property Number: 77200610024

Status: Unutilized

Reasons: Extensive deterioration

Bldg. 581

Naval Base Point Loma

San Diego CA

Landholding Agency: Navy

Property Number: 77200610026

Status: Unutilized

Reasons: Extensive deterioration

Bldgs. A25, A27

Naval Base Point Loma

San Diego CA

Landholding Agency: Navy

Property Number: 77200610027

Status: Unutilized

Reasons: Extensive deterioration

Unsuitable Properties

Building

California

Bldgs. 31926, 31927, 31928

Marine Corps Base

Camp Pendleton CA 92055

Landholding Agency: Navy

Property Number: 77200610058

Status: Excess

Reasons: Extensive deterioration

Bldg. 41326

Marine Corps Base

Camp Pendleton CA 92055

Landholding Agency: Navy

Property Number: 77200610059

Status: Excess

Reasons: Extensive deterioration

Bldg. 41816

Marine Corps Base

Camp Pendleton CA 92055

Landholding Agency: Navy

Property Number: 77200610060

Status: Excess

Reasons: Extensive deterioration

Bldgs. 1468, 1469

Naval Base

Port Hueneme Co: Ventura CA 93043

Landholding Agency: Navy

Property Number: 77200630002

Status: Unutilized

Reasons: Secured Area

Unsuitable Properties

Building

California

Bldg. 30869

Naval Air Weapons Station

China Lake CA 93555

Landholding Agency: Navy

Property Number: 77200630005

Status: Excess

Reasons: Extensive deterioration Secured Area

Bldgs. 2-8, 3-10

Naval Base

Port Mugu Co: Ventura CA 93043

Landholding Agency: Navy

Property Number: 77200630009

Status: Unutilized

Reasons: Extensive deterioration Secured Area

Bldgs. 6-11, 6-12, 6-819

Naval Base

Port Mugu Co: Ventura CA 93043

Landholding Agency: Navy

Property Number: 77200630010

Status: Unutilized

Reasons: Extensive deterioration

Secured Area

Bldg. 85

Naval Base

Port Mugu Co: Ventura CA 93043

Landholding Agency: Navy

Property Number: 77200630011

Status: Unutilized

Reasons: Extensive deterioration

Secured Area

Unsuitable Properties

Building

California

Bldgs. 120, 123

Naval Base

Port Mugu Co: Ventura CA 93043

Landholding Agency: Navy

Property Number: 77200630012

Status: Unutilized

Reasons: Extensive deterioration Secured Area

Bldg. 724

Naval Base

Port Mugu Co: Ventura CA 93043

Landholding Agency: Navy

Property Number: 77200630013

Status: Unutilized

Reasons: Extensive deterioration Secured Area

Bldg. 764

Naval Base

Port Mugu Co: Ventura CA 93043

Landholding Agency: Navy

Property Number: 77200630014

Status: Unutilized

Reasons: Secured Area

Bldg. 115

Naval Base

Port Hueneme Co: Ventura CA 93042

Landholding Agency: Navy

Property Number: 77200630015

Status: Unutilized

Reasons: Extensive deterioration Secured Area

Unsuitable Properties

Building

California

Bldg. 323

Naval Base

Port Hueneme Co: Ventura CA 93042

Landholding Agency: Navy

Property Number: 77200630016

Status: Unutilized

Reasons: Secured Area Extensive deterioration

Bldg. 488

Naval Base

Port Hueneme Co: Ventura CA 93042

Landholding Agency: Navy

Property Number: 77200630017

Status: Unutilized

Reasons: Extensive deterioration Secured Area

Bldg. 842

Naval Base

Port Hueneme Co: Ventura CA 93042

Landholding Agency: Navy

Property Number: 77200630018

Status: Unutilized

Reasons: Extensive deterioration Secured Area

Bldg. 927

Naval Base

Port Hueneme Co: Ventura CA 93042

Landholding Agency: Navy

Property Number: 77200630019

Status: Unutilized

Reasons: Extensive deterioration Secured Area

Unsuitable Properties

Building

California

Bldg. 1150

Naval Base

Port Hueneme Co: Ventura CA 93042

Landholding Agency: Navy

Property Number: 77200630020

Status: Unutilized

Reasons: Extensive deterioration Secured Area

Bldg. 1361

Naval Base

Port Hueneme Co: Ventura CA 93042

Landholding Agency: Navy

Property Number: 77200630021

Status: Unutilized

Reasons: Extensive deterioration Secured Area

Bldg. PH546

Naval Base

Port Hueneme Co: Ventura CA 93043

Landholding Agency: Navy

Property Number: 77200640027

Status: Unutilized

Reasons: Extensive deterioration Secured Area

Unsuitable Properties

Building

Connecticut

Bldgs. 25 and 26

Prospect Hill Road

Windsor Co: Hartford CT 06095

Landholding Agency: Energy

Property Number: 41199440003

Status: Excess

Reasons: Secured Area

9 Bldgs.

Knolls Atomic Power Lab, Windsor Site

Windsor Co: Hartford CT 06095

Landholding Agency: Energy

Property Number: 41199540004

Status: Excess

Reasons: Secured Area

Bldg. 8, Windsor Site

Knolls Atomic Power Lab

Windsor Co: Hartford CT 06095

Landholding Agency: Energy

Property Number: 41199830006

Status: Unutilized

Reasons: Extensive deterioration

Unsuitable Properties

Building

District of Columbia

Bldg. 396

Naval Support Facility

Anacostia Annex DC 20373

Landholding Agency: Navy

Property Number: 77200630008

Status: Unutilized

Reasons: Within 2000 ft. of flammable or explosive material Secured Area

Florida

Bldg. U-150

Naval Air Station

Key West Co: Monroe FL 33040

Landholding Agency: Navy

Property Number: 77200520044

Status: Excess

Reasons: Secured Area Extensive deterioration

Bldgs. V1221 A

Naval Air Station

Sigsbee Park

Key West Co: Monroe FL 33040

Landholding Agency: Navy

Property Number: 77200530013

Status: Unutilized

Reasons: Secured Area Extensive deterioration

Unsuitable Properties

Building

Florida

Bldg. 969

Naval Air Station

Jacksonville Co: Duval FL 32212

Landholding Agency: Navy

Property Number: 77200540014

Status: Unutilized

Reasons: Secured Area

Bldgs. 1759, 1760

Naval Air Station

Jacksonville Co: Duval FL

Landholding Agency: Navy

Property Number: 77200540015

Status: Unutilized

Reasons: Secured Area

Bldg. 1917

Naval Air Station

Jacksonville Co: Duval FL 32212

Landholding Agency: Navy

Property Number: 77200540016

Status: Unutilized

Reasons: Secured Area

Bldgs. 1, 2

Naval Station

Mayport Co: Duval FL 32228

Landholding Agency: Navy

Property Number: 77200540018

Status: Excess

Reasons: Extensive deterioration, Floodway, Secured Area

Unsuitable Properties

Building

Florida

Bldg. 24

Naval Station

Mayport Co: Duval FL 32228

Landholding Agency: Navy

Property Number: 77200540019

Status: Excess

Reasons: Floodway, Extensive deterioration, Secured Area

Bldg. 66

Naval Station

Mayport Co: Duval FL 32228

Landholding Agency: Navy

Property Number: 77200540020

Status: Excess

Reasons: Floodway, Secured Area, Extensive deterioration

Bldg. 216

Naval Station

Mayport Co: Duval FL 32228

Landholding Agency: Navy

Property Number: 77200540021

Status: Excess Floodway

Reasons: Extensive deterioration, Secured Area, Floodway

Unsuitable Properties

Building

Florida

Bldgs. 437, 450

Naval Station

Mayport Co: Duval FL 32228

Landholding Agency: Navy

Property Number: 77200540022

Status: Excess

Reasons: Floodway, Secured Area, Extensive deterioration

Bldgs. 1234, 1235

Naval Station

Mayport Co: Duval FL 32228

Landholding Agency: Navy

Property Number: 77200540023

Status: Excess

Reasons: Extensive deterioration, Secured Area, Floodway

Bldg. 212

Naval Station

Mayport Co: Duval FL 32228

Landholding Agency: Navy

Property Number: 77200620011

Status: Unutilized

Reasons: Floodway, Secured Area, Extensive deterioration

Unsuitable Properties

Building

Florida

Bldg. 508

Naval Station

Mayport FL 32228

Landholding Agency: Navy

Property Number: 77200620035

Status: Unutilized

Reasons: Secured Area, Floodway

Bldg. 834

Naval Air Station

Pensacola Co: Escambia FL 32508

Landholding Agency: Navy

Property Number: 77200630022

Status: Unutilized

Reasons: Extensive deterioration

Bldg. 2658

Naval Air Station

Pensacola Co: Escambia FL 32508

Landholding Agency: Navy

Property Number: 77200630023

Status: Unutilized

Reasons: Extensive deterioration

Bldg. 3483

Naval Air Station

Pensacola Co: Escambia FL 32508

Landholding Agency: Navy

Property Number: 77200630024

Status: Unutilized

Reasons: Extensive deterioration

Unsuitable Properties

Building

Florida

Bldg. 6144

Naval Air Station

Pensacola Co: Escambia FL 32508

Landholding Agency: Navy

Property Number: 77200630025

Status: Unutilized

Reasons: Extensive deterioration

Bldg. F11

Naval Air Station

Key West FL 33040

Landholding Agency: Navy

Property Number: 77200630026

Status: Unutilized

Reasons: Secured Area, Extensive deterioration

Bldgs. A225, A409

Naval Air Station

Key West FL 33040

Landholding Agency: Navy

Property Number: 77200630027

Status: Unutilized

Reasons: Secured Area, Extensive deterioration

Bldg. A515

Naval Air Station

Key West FL 33040

Landholding Agency: Navy

Property Number: 77200630028

Status: Unutilized

Reasons: Secured Area, Extensive deterioration

Unsuitable Properties

Building

Florida

Bldg. A635

Naval Air Station

Key West FL 33040

Landholding Agency: Navy

Property Number: 77200630029

Status: Unutilized

Reasons: Secured Are, Extensive deterioration

Bldgs. A993, A994

Naval Air Station

Key West FL 33040

Landholding Agency: Navy

Property Number: 77200630030

Status: Unutilized

Reasons: Secured Area, Extensive deterioration

Bldg. A1068

Naval Air Station

Key West FL 33040

Landholding Agency: Navy

Property Number: 77200630031

Status: Unutilized

Reasons: Extensive deterioration, Secured Area

Bldg. A4021

Naval Air Station

Key West FL 33040

Landholding Agency: Navy

Property Number: 77200630032

Status: Unutilized

Reasons: Extensive deterioration, Secured Area

Unsuitable Properties

Building

Florida

Bldg. 4080

Naval Air Station

Key West FL 33040

Landholding Agency: Navy

Property Number: 77200630033

Status: Unutilized

Reasons: Extensive deterioration, Secured Area

Georgia

Bldgs. 90259, 90260

Bowmans Island

Cumming Co: Forsyth GA 30041

Landholding Agency: Interior

Property Number: 61200640008

Status: Excess

Reasons: Extensive deterioration

Bldg. 5101

Naval Submarine Base

Kings Bay Co: Camden GA 31547

Landholding Agency: Navy

Property Number: 77200520004

Status: Unutilized

Reasons: Extensive deterioration, Secured Area, Floodway

Unsuitable Properties

Building

Georgia

Bldg. 0038

Naval Submarine Base

Kings Bay GA 31547

Landholding Agency: Navy

Property Number: 77200620036

Status: Unutilized

Reasons: Secured Area, Extensive deterioration

Guam

Bldg. B-32

Naval Forces

Marianas GU

Landholding Agency: Navy

Property Number: 77200520023

Status: Unutilized

Reasons: Extensive deterioration

Bldgs. 76, 77, 79

Naval Forces

Marianas GU

Landholding Agency: Navy

Property Number: 77200520024

Status: Unutilized

Reasons: Extensive deterioration

4 Bldgs.

Naval Forces 261, 262, 263, 269

Marianas GU

Landholding Agency: Navy

Property Number: 77200520025

Status: Unutilized

Reasons: Extensive deterioration

Unsuitable Properties

Building

Guam

Bldg. 404NM

Naval Forces

Marianas GU

Landholding Agency: Navy

Property Number: 77200520026

Status: Unutilized

Reasons: Extensive deterioration

Bldgs. 3150, 3268

Naval Forces

Marianas GU

Landholding Agency: Navy

Property Number: 77200520030

Status: Unutilized

Reasons: Extensive deterioration

Bldgs. 5409, 5412, 5413

Naval Forces

Marianas GU

Landholding Agency: Navy

Property Number: 77200520031

Status: Unutilized

Reasons: Extensive deterioration

Bldg. 5500

Naval Forces

Marianas GU

Landholding Agency: Navy

Property Number: 77200520032

Status: Unutilized

Reasons: Extensive deterioration

Unsuitable Properties

Building

Guam

73 Bldgs.

Naval Computer Station

Marianas GU

Landholding Agency: Navy

Property Number: 77200520045

Status: Excess

Directions: A700-A716, A725, A728, A735, A741-A784, A803-A805, A811-A813, A829-A831

Reasons: Extensive deterioration, Secured Area

Bldgs. 2006, 2009

Naval Ship Repair Facility

Marianas GU

Landholding Agency: Navy

Property Number: 77200520048

Status: Excess

Reasons: Extensive deterioration, Secured Area

Bldgs. 2014, 2916

Naval Ship Repair Facility

Marianas GU

Landholding Agency: Navy

Property Number: 77200520049

Status: Excess

Reasons: Extensive deterioration, Secured Area

Unsuitable Properties

Building

Guam

Bldgs. 277, 308

Naval Forces Marianas

Santa Rita Co: Apra Harbor GU

Landholding Agency: Navy

Property Number: 77200610028

Status: Excess

Reasons: Secured Area

Bldgs. 1686, 1689, 1690

Naval Forces Marianas

Santa Rita Co: Apra Harbor GU

Landholding Agency: Navy

Property Number: 77200610029

Status: Excess

Reasons: Secured Area

Bldgs. 1714, 1767, 1768

Naval Forces Marianas

Santa Rita Co: Apra Harbor GU

Landholding Agency: Navy

Property Number: 77200610030

Status: Excess

Reasons: Secured Area

Bldgs. 1771, 1772, 1773

Naval Forces Marianas

Santa Rita Co: Apra Harbor GU

Landholding Agency: Navy

Property Number: 77200610031

Status: Excess

Reasons: Secured Area

Unsuitable Properties

Building

Guam

Bldgs. 1791, 1792

Naval Forces Marianas

Santa Rita Co: Apra Harbor GU

Landholding Agency: Navy

Property Number: 77200610032

Status: Excess

Reasons: Secured Area

Bldgs. 3000, 3001

Naval Forces Marianas

Santa Rita Co: Apra Harbor GU

Landholding Agency: Navy

Property Number: 77200610033

Status: Excess

Reasons: Secured Area

Bldgs. 3002, 3004, 3005

Naval Forces Marianas

Santa Rita Co: Apra Harbor GU

Landholding Agency: Navy

Property Number: 77200610034

Status: Excess

Reasons: Secured Area

Bldgs. 3006, 3007

Naval Forces Marianas

Santa Rita Co: Apra Harbor GU

Landholding Agency: Navy

Property Number: 77200610035

Status: Excess

Reasons: Secured Area

Unsuitable Properties

Building

Guam

Steam Plant

Naval Forces Marianas

Santa Rita Co: Apra Harbor GU

Landholding Agency: Navy

Property Number: 77200610036

Status: Excess

Reasons: Secured Area

Bldgs. 403, 404

Marianas Support Activity

Santa Rita Co: Naval Magazine GU

Landholding Agency: Navy

Property Number: 77200620013

Status: Unutilized

Reasons: Secured Area

Bldgs. 464, 729

Marianas Support Activity

Santa Rita Co: Naval Magazine GU

Landholding Agency: Navy

Property Number: 77200620014

Status: Unutilized

Reasons: Secured Area

Bldgs. 836, 837

Marianas Support Activity

Santa Rita Co: Naval Magazine GU

Landholding Agency: Navy

Property Number: 77200620015

Status: Unutilized

Reasons: Extensive deterioration, Secured Area

Unsuitable Properties

Building

Guam

Bldg. 11XC7

Marianas Support Activity

Santa Rita Co: Naval Magazine GU

Landholding Agency: Navy

Property Number: 77200620016

Status: Unutilized

Reasons: Secured Area, Extensive deterioration

Bldgs. 23YC1, 23YC2, 23YC3

Marianas Support Activity

Santa Rita Co: Naval Magazine GU

Landholding Agency: Navy

Property Number: 77200620017

Status: Unutilized

Reasons: Extensive deterioration, Secured Area

Bldgs. 23YC4, 23YC5

Marianas Support Activity

Santa Rita Co: Naval Magazine GU

Landholding Agency: Navy

Property Number: 77200620018

Status: Unutilized

Reasons: Extensive deterioration, Secured Area

Bldgs. 24YC7, 24YC8

Marianas Support Activity

Santa Rita Co: Naval Magazine GU

Landholding Agency: Navy

Property Number: 77200620019

Status: Unutilized

Reasons: Secured Area, Extensive deterioration

Unsuitable Properties

Building

Guam

Bldgs. 26YC3, 26YC5

Marianas Support Activity

Santa Rita Co: Naval Magazine GU

Landholding Agency: Navy

Property Number: 77200620020

Status: Unutilized

Reasons: Secured Area, Extensive deterioration

Old Bus Stop

Marianas Support Activity

Santa Rita Co: Naval Magazine GU

Landholding Agency: Navy

Property Number: 77200620021

Status: Unutilized

Reasons: Secured Area, Extensive deterioration

2 Guard Houses

Marianas Support Activity

Santa Rita Co: Naval Magazine GU

Landholding Agency: Navy

Property Number: 77200620022

Status: Unutilized

Reasons: Extensive deterioration, Secured Area

9 Magazines

Marianas Support Activity

Santa Rita Co: Naval Magazine GU

Landholding Agency: Navy

Property Number: 77200620023

Status: Unutilized

Reasons: Extensive deterioration, Secured Area

Unsuitable Properties

Building

Guam

Bldgs. 151, 152, 153

Naval Forces Marianas

Santa Rita Co: Apra Harbor GU

Landholding Agency: Navy

Property Number: 77200630001

Status: Unutilized

Reasons: Extensive deterioration

Hawaii

Bldg. 346

Naval Station

Pearl Harbor HI 96860

Landholding Agency: Navy

Property Number: 77200610002

Status: Excess

Reasons: Extensive deterioration

Idaho

Bldg. CPP-691

Idaho National Engineering Laboratory

Scoville Co: Butte ID 83415

Landholding Agency: Energy

Property Number: 41199610003

Status: Unutilized

Reasons: Secured Area

Bldg. TRA-669

Idaho National Engineering Laboratory

Scoville Co: Butte ID 83415

Landholding Agency: Energy

Property Number: 41199610013

Status: Unutilized

Reasons: Secured Area

Unsuitable Properties

Building

Idaho

Bldg. TRA-673

Idaho National Engineering Laboratory

Scoville Co: Butte ID 83415

Landholding Agency: Energy

Property Number: 41199610018

Status: Unutilized

Reasons: Secured Area

Bldg. PBF-620

Idaho National Engineering Laboratory

Scoville Co: Butte ID 83415

Landholding Agency: Energy

Property Number: 41199610019

Status: Unutilized

Reasons: Secured Area

Bldg. PBF-619

Idaho National Engineering Laboratory

Scoville Co: Butte ID 83415

Landholding Agency: Energy

Property Number: 41199610022

Status: Unutilized

Reasons: Secured Area

Bldg. TRA-641

Idaho National Engineering Laboratory

Scoville Co: Butte ID 83415

Landholding Agency: Energy

Property Number: 41199610034

Status: Unutilized

Reasons: Secured Area

Unsuitable Properties

Building

Idaho

Bldg. CF-606

Idaho National Engineering Laboratory

Scoville Co: Butte ID 83415

Landholding Agency: Energy

Property Number: 41199610037

Status: Unutilized

Reasons: Secured Area

Bldgs. CPP638, CPP642

Idaho Natl. Eng. Lab

Scoville Co: Butte ID 83415

Landholding Agency: Energy

Property Number: 41200410014

Status: Excess

Reasons: Secured Area

Bldg. CPP 743

Idaho Natl. Eng. lab

Scoville Co: Butte ID 83-415

Landholding Agency: Energy

Property Number: 41200410020

Status: Excess

Reasons: Secured Area

Bldgs. CPP1647, 1653

Idaho Natl. Eng. Lab

Scoville Co: Butte ID 83415

Landholding Agency: Energy

Property Number: 41200410022

Status: Excess

Reasons: Secured Area

Unsuitable Properties

Building

Idaho

Bldg. CPP1677

Idaho Natl Eng Lab

Scoville Co: Butte ID 83415

Landholding Agency: Energy

Property Number: 41200410023

Status: Excess

Reasons: Secured Area

Bldg. 694

Idaho Natl Eng Lab

Scoville Co: Butte ID 83415

Landholding Agency: Energy

Property Number: 41200410034

Status: Excess

Reasons: Secured Area

Bldgs. CPP1604-CPP1608

Idaho National Eng Lab

Scoville Co: Butte ID 83415

Landholding Agency: Energy

Property Number: 41200430071

Status: Excess

Reasons: Secured Area

Bldgs. CPP1617-CPP1619

Idaho National Eng Lab

Scoville Co: Butte ID 83415

Landholding Agency: Energy

Property Number: 41200430072

Status: Excess

Reasons: Secured Area

Unsuitable Properties

Building

Idaho

6 Bldgs.

Idaho National Eng Lab

Scoville Co: Butte ID 83415

Landholding Agency: Energy

Property Number: 41200430073

Status: Excess

Directions: CPP1631, CPP1634, CPP1635, CPP1636, CPP1637, CPP1638

Reasons: Secured Area

5 Bldgs.

Idaho National Eng Lab

Scoville Co: Butte ID 83415

Landholding Agency: Energy

Property Number: 41200430074

Status: Excess

Directions: CPP1642, CPP1643, CPP1644, CPP1646, CPP1649

Reasons: Secured Area

3 Bldgs.

Idaho National Eng Lab

Scoville Co: Butte ID 83415

Landholding Agency: Energy

Property Number: 41200430075

Status: Excess

Directions: CPP1650, CPP1651, CPP1656

Reasons: Secured Area

Unsuitable Properties

Building

Idaho

5 Bldgs.

Idaho National Eng Lab

Scoville Co: Butte ID 83415

Landholding Agency: Energy

Property Number: 41200430076

Status: Excess

Directions: CPP1662, CPP1663, CPP1671, CPP1673, CPP1674

Reasons: Secured Area

5 Bldgs.

Idaho National Eng Lab

Scoville Co: Butte ID 83415

Landholding Agency: Energy

Property Number: 41200430077

Status: Excess

Directions: CPP1678, CPP1682, CPP1683, CPP1684, CPP1686

Reasons: Secured Area

5 Bldgs.

Idaho National Eng Lab

Scoville Co: Butte ID 83415

Landholding Agency: Energy

Property Number: 41200430078

Status: Excess

Directions: CPP1713, CPP1749, CPP1750, CPP1767, CPP1769

Reasons: Secured Area

Unsuitable Properties

Building

Idaho

5 Bldgs.

Idaho National Eng Lab

Scoville Co: Butte ID 83415

Landholding Agency: Energy

Property Number: 41200430079

Status: Excess

Directions: CPP1770, CPP1771, CPP1772, CPP1774, CPP1776

Reasons: Secured Area

4 Bldgs.

Idaho National Eng Lab

Scoville Co: Butte ID 83415

Landholding Agency: Energy

Property Number: 41200430081

Status: Excess

Directions: CPP1789, CPP1790, CPP1792, CPP1794

Reasons: Secured Area

Bldgs. CPP2701, CPP2706

Idaho National Eng Lab

Scoville Co: Butte ID 83415

Landholding Agency: Energy

Property Number: 41200430082

Status: Excess

Reasons: Secured Area

Unsuitable Properties

Building

Idaho

3 Bldgs.

Idaho National Eng Lab

Scoville Co: Butte ID 83415

Landholding Agency: Energy

Property Number: 41200430089

Status: Excess

Directions: TRA603, TRA604, TRA610

Reasons: Secured Area

Bldg. TAN611

Idaho National Eng Lab

Scoville Co: Butte ID 83415

Landholding Agency: Energy

Property Number: 41200430090

Status: Excess

Reasons: Secured Area

5 Bldgs.

Idaho National Eng Lab

Scoville Co: Butte ID 83415

Landholding Agency: Energy

Property Number: 41200430091

Status: Excess

Directions: TRA626, TRA635, TRA642, TRA648, TRA654

Reasons: Secured Area

Bldg. TAN655

Idaho National Eng Lab

Scoville Co: Butte ID 83415

Landholding Agency: Energy

Property Number: 41200430092

Status: Excess

Reasons: Secured Area

Unsuitable Properties

Building

Idaho

3 Bldgs.

Idaho National Eng Lab

Scoville Co: Butte ID 83415

Landholding Agency: Energy

Property Number: 41200430093

Status: Excess

Directions: TRA657, TRA661, TRA668

Reasons: Secured Area

Bldg. TAN711

Idaho National Eng Lab

Scoville Co: Butte ID 83415

Landholding Agency: Energy

Property Number: 41200430094

Status: Excess

Reasons: Secured Area

6 Bldgs.

Idaho National Eng Lab

Scoville Co: Butte ID 83415

Landholding Agency: Energy

Property Number: 41200430095

Status: Excess

Directions: CPP602-CPP606, CPP609

Reasons: Secured Area

Unsuitable Properties

Building

Idaho

5 Bldgs.

Idaho National Eng Lab

Scoville Co: Butte ID 83415

Landholding Agency: Energy

Property Number: 41200430096

Status: Excess

Directions: CPP611-CPP614, CPP616

Reasons: Secured Area

4 Bldgs.

Idaho National Eng Lab

Scoville Co: Butte ID 83415

Landholding Agency: Energy

Property Number: 41200430097

Status: Excess

Directions: CPP621, CPP626, CPP630, CPP639

Reasons: Secured Area

4 Bldgs.

Idaho National Eng Lab

Scoville Co: Butte ID 83415

Landholding Agency: Energy

Property Number: 41200430098

Status: Excess

Directions: CPP641, CPP644, CPP645, CPP649

Reasons: Secured Area

Unsuitable Properties

Building

Idaho

Bldgs. CPP651-CPP655

Idaho National Eng Lab

Scoville Co: Butte ID 83415

Landholding Agency: Energy

Property Number: 41200430099

Status: Excess

Reasons: Secured Area

Bldgs. CPP659-CPP663

Idaho National Eng Lab

Scoville Co: Butte ID 83415

Landholding Agency: Energy

Property Number: 41200440001

Status: Excess

Reasons: Secured Area

Bldgs. CPP666, CPP668

Idaho Naitonal Eng Lab

Scoville Co: Butte ID 83415

Landholding Agency: Energy

Property Number: 41200440002

Status: Excess

Reasons: Secured Area

1 Bldg.

Idaho National Eng Lab

Scoville Co: Butte ID 83415

Landholding Agency: Energy

Property Number: 41200440004

Status: Excess

Directions: CPP684

Reasons: Secured Area

Unsuitable Properties

Building

Idaho

5 Bldg.

Idaho National Eng Lab

Scoville Co: Butte ID 83415

Landholding Agency: Energy

Property Number: 41200440005

Status: Excess

Directions: CPP692, CPP694, CPP697-CPP699

Reasons: Secured Area

3 Bldgs.

Idaho National Eng Lab

Scoville Co: Butte ID 83415

Landholding Agency: Energy

Property Number: 41200440006

Status: Excess

Directions: CPP701, CPP701A, CPP708

Reasons: Secured Area

Bldgs. 711, 719A

Idaho National Eng Lab

Scoville Co: Butte ID 83415

Landholding Agency: Energy

Property Number: 41200440007

Status: Excess

Reasons: Secured Area

Unsuitable Properties

Building

Idaho

4 Bldgs.

Idaho National Eng Lab

Scoville Co: Butte ID 83415

Landholding Agency: Energy

Property Number: 41200440008

Status: Excess

Directions: CPP724-CPP726, CPP728

Reasons: Secured Area

Bldg. CPP729/741

Idaho National Eng Lab

Scoville Co: Butte ID 83415

Landholding Agency: Energy

Property Number: 41200440012

Status: Excess

Reasons: Secured Area

Bldgs. CPP733, CPP736

Idaho National Eng Lab

Scoville Co: Butte ID 83415

Landholding Agency: Energy

Property Number: 41200440013

Status: Excess

Reasons: Secured Area

Bldgs. CPP740, CPP742

Idaho National Eng Lab

Scoville Co: Butte ID 83415

Landholding Agency: Energy

Property Number: 41200440014

Status: Excess

Reasons: Secured Area

Unsuitable Properties

Building

Idaho

Bldgs. CPP746, CPP748

Idaho National Eng Lab

Scoville Co: Butte ID 83415

Landholding Agency: Energy

Property Number: 41200440015

Status: Excess

Reasons: Secured Area

3 Bldgs.

Idaho National Eng Lab

CPP750, CPP751, CPP752

Scoville Co: Butte ID 83415

Landholding Agency: Energy

Property Number: 41200440016

Status: Excess

Reasons: Secured Area

3 Bldgs.

Idaho National Eng Lab

CPP753, CPP753A, CPP754

Scoville Co: Butte ID 83415

Landholding Agency: Energy

Property Number: 41200440017

Status: Excess

Reasons: Secured Area

Bldgs. CPP760, CPP763

Idaho National Eng Lab

Scoville Co: Butte ID 83415

Landholding Agency: Energy

Property Number: 41200440018

Status: Excess

Reasons: Secured Area

Unsuitable Properties

Building

Idaho

Bldgs. CPP764, CPP765

Idaho National Eng Lab

Scoville Co: Butte ID 83415

Landholding Agency: Energy

Property Number: 41200440019

Status: Excess

Reasons: Secured Area

Bldgs. CPP767, CPP768

Idaho National Eng Lab

Scoville Co: Butte ID 83415

Landholding Agency: Energy

Property Number: 41200440020

Status: Excess

Reasons: Secured Area

Bldgs. CPP791, CPP795

Idaho National Eng Lab

Scoville Co: Butte ID 83415

Landholding Agency: Energy

Property Number: 41200440021

Status: Excess

Reasons: Secured Area

3 Bldgs.

Idaho National Eng Lab

CPP796, CPP797, CPP799

Scoville Co: Butte ID 83415

Landholding Agency: Energy

Property Number: 41200440022

Status: Excess

Reasons: Secured Area

Unsuitable Properties

Building

Idaho

Bldgs. CPP701B, CPP719

Idaho National Eng Lab

Scoville Co: Butte ID 83415

Landholding Agency: Energy

Property Number: 41200440023

Status: Excess

Reasons: Secured Area

Bldgs. CPP720A, CPP720B

Idaho National Eng Lab

Scoville Co: Butte ID 83415

Landholding Agency: Energy

Property Number: 41200440024

Status: Excess

Reasons: Secured Area

Bldg. CPP1781

Idaho National Eng Lab

Scoville Co: Butte ID 83415

Landholding Agency: Energy

Property Number: 41200440025

Status: Excess

Reasons: Secured Area

2 Bldgs.

Idaho National Eng Lab

CPP0000VES-UTI-111, VES-UTI-112

Scoville Co: Butte ID 83415

Landholding Agency: Energy

Property Number: 41200440026

Status: Excess

Reasons: Secured Area

Unsuitable Properties

Building

Idaho

Bldgs. TAN704, TAN733

Idaho National Eng Lab

Scoville Co: Butte ID 83415

Landholding Agency: Energy

Property Number: 41200440028

Status: Excess

Reasons: Secured Area

Bldgs. TAN1611, TAN1614

Idaho National Eng Lab

Scoville Co: Butte ID 83415

Landholding Agency: Energy

Property Number: 41200440029

Status: Excess

Reasons: Secured Area

Bldg. CF633

Idaho Natl Laboratory

Scoville Co: Butte ID 83415

Landholding Agency: Energy

Property Number: 41200520005

Status: Excess

Reasons: Extensive deterioration

Unsuitable Properties

Building

Illinois

Bldg. 42

Naval Station

Great Lakes IL 60088

Landholding Agency: Navy

Property Number: 77200520055

Status: Excess

Reasons: Secured Area, Extensive deterioration

Bldgs. 25

Naval Station

Great Lakes IL 60088

Landholding Agency: Navy

Property Number: 77200530001

Status: Excess

Reasons: Extensive deterioration

Bldg. 42

Naval Station

Great Lakes IL 60088

Landholding Agency: Navy

Property Number: 77200530014

Status: Excess

Reasons: Extensive deterioration, Secured Area

Bldg. 2C

Naval Station

Great Lakes IL 60088-2900

Landholding Agency: Navy

Property Number: 77200540005

Status: Excess

Reasons: Secured Area

Unsuitable Properties

Building

Illinois

Bldg. 3312

Naval Station

Great Lakes IL 60085

Landholding Agency: Navy

Property Number: 77200640028

Status: Excess

Reasons: Secured Area

Bldg. 220

Naval Station

Great Lakes IL 60085

Landholding Agency: Navy

Property Number: 77200640029

Status: Excess

Reasons: Secured Area

Indiana

Bldgs. 1871, 2636

Naval Support Activity

Crane Co: Martin IN 47522

Landholding Agency: Navy

Property Number: 77200530015

Status: Unutilized

Reasons: Secured Area, Within 2000 ft. of flammable or explosive material, Extensive deterioration

Bldg. 1820

Naval Support Activity

Crane Co: Martin IN 47522

Landholding Agency: Navy

Property Number: 77200540028

Status: Unutilized

Reasons: Extensive deterioration

Unsuitable Properties

Building

Indiana

Bldg. 2694

Naval Support Activity

Crane Co: Martin IN 47522

Landholding Agency: Navy

Property Number: 77200540029

Status: Unutilized

Reasons: Extensive deterioration

Bldg. 2796

Naval Support Activity

Crane Co: Martin IN 47522

Landholding Agency: Navy

Property Number: 77200620001

Status: Unutilized

Reasons: Extensive deterioration, Secured Area, Within 2000 ft. of flammable or explosive material

Bldg. 21, VA Medical Center

East 38th Street

Marion Co: Grant IN 46952

Landholding Agency: VA

Property Number: 97199230001

Status: Excess

Reasons: Extensive deterioration

Bldg. 22, VA Medical Center

East 38th Street

Marion Co: Grant IN 46952

Landholding Agency: VA

Property Number: 97199230002

Status: Excess

Reasons: Extensive deterioration

Unsuitable Properties

Building

Indiana

Bldg. 62, VA Medical Center

East 38th Street

Marion Co: Grant IN 46952

Landholding Agency: VA

Property Number: 97199230003

Status: Excess

Reasons: Extensive deterioration

Maryland

Bldg. 84NS

Naval Support Activity

Annapolis Co: Anne Arundel MD 21402

Landholding Agency: Navy

Property Number: 77200610038

Status: Unutilized

Reasons: Within 2000 ft. of flammable or explosive material Floodway

Bldg. 2075

Naval Surface Warfare

Indian Head MD

Landholding Agency: Navy

Property Number: 77200630043

Status: Excess

Reasons: Extensive deterioration

Unsuitable Properties

Building

Massachusetts

Westview Street Wells

Lexington MA 02173

Landholding Agency: VA

Property Number: 97199920001

Status: Unutilized

Reasons: Extensive deterioration

Unsuitable Properties

Building

Michigan

Admin. Bldg.

Station Saginaw River

Essexville Co: Bay MI 48732

Landholding Agency: Coast Guard

Property Number: 88200510001

Status: Unutilized

Reasons: Extensive deterioration, Secured Area

Mississippi

Bldg. 9

Construction Battalion Center

Gulfport MS

Landholding Agency: Navy

Property Number: 77200610039

Status: Unutilized

Reasons: Secured Area, Extensive deterioration

Unsuitable Properties

Building

Mississippi

Bldgs. 22, 27, 41

Construction Battalion Center

Gulfport MS

Landholding Agency: Navy

Property Number: 77200610040

Status: Unutilized

Reasons: Extensive deterioration, Secured Area

Bldgs. 108, 181, 183

Construction Battalion Center

Gulfport MS

Landholding Agency: Navy

Property Number: 77200610041

Status: Unutilized

Reasons: Secured Area, Extensive deterioration

Bldg. 201

Construction Battalion Center

Gulfport MS

Landholding Agency: Navy

Property Number: 77200610042

Status: Unutilized

Reasons: Secured Area, Extensive deterioration

Bldgs. 270, 270A-1, 270A-2

Construction Battalion Center

Gulfport MS

Landholding Agency: Navy

Property Number: 77200610043

Status: Unutilized

Reasons: Extensive deterioration, Secured Area

Unsuitable Properties

Building

Mississippi

Bldgs. 375, 420

Construction Battalion Center

Gulfport MS

Landholding Agency: Navy

Property Number: 77200610044

Status: Unutilized

Reasons: Secured Area, Extensive deterioration

Bldg. 6, Boiler Plant

Biloxi VA Medical Center

Gulfport Co: Harrison MS 39531

Landholding Agency: VA

Property Number: 97199410001

Status: Unutilized

Reasons: Floodway

Bldg. 67

Biloxi VA Medical Center

Gulfport Co: Harrison MS 39531

Landholding Agency: VA

Property Number: 97199410008

Status: Unutilized

Reasons: Extensive deterioration

Bldg. 68

Biloxi VA Medical Center

Gulfport Co: Harrison MS 39531

Landholding Agency: VA

Property Number: 97199410009

Status: Unutilized

Reasons: Extensive deterioration

Unsuitable Properties

Building

Missouri

Bldg. 3

VA Medical Center

Jefferson Barracks Division

St. Louis MO 63125

Landholding Agency: VA

Property Number: 97200340001

Status: Underutilized

Reasons: Secured Area

Bldg. 4

VA Medical Center

Jefferson Barracks Division

St. Louis MO

Landholding Agency: VA

Property Number: 97200340002

Status: Underutilized

Reasons: Secured Area

Bldg. 27

VA Medical Center

Jefferson Barracks Division

St. Louis MO 63125

Landholding Agency: VA

Property Number: 97200340003

Status: Underutilized

Reasons: Secured Area

Bldg. 28

VA Medical Center

Jefferson Barracks Division

St. Louis MO 63125

Landholding Agency: VA

Property Number: 97200340004

Status: Underutilized

Reasons: Secured Area

Unsuitable Properties

Building

Missouri

Bldg. 29

VA Medical Center

Jefferson Barracks Division

St. Louis MO 63125

Landholding Agency: VA

Property Number: 97200340005

Status: Underutilized

Reasons: Secured Area

Bldg. 50

VA Medical Center

Jefferson Barracks Division

St. Louis MO 63125

Landholding Agency: VA

Property Number: 97200340006

Status: Underutilized

Reasons: Secured Area

Nevada

28 Facilities

Nevada Test Site

Mercury Co: Nye NV 89023

Landholding Agency: Energy

Property Number: 41200310018

Status: Excess

Reasons: Secured Area, Other—contamination

Unsuitable Properties

Building

Nevada

31 Bldgs./Facilities

Nellis AFB

Tonopah Test Range

Tonopah Co: Nye NV 89049

Landholding Agency: Energy

Property Number: 41200330003

Status: Unutilized

Reasons: Secured Area

42 Bldgs.

Nellis Air Force Base

Tonopah Co: Nye NV 89049

Landholding Agency: Energy

Property Number: 41200410029

Status: Unutilized

Directions: 49-01, NM104, NM105, 03-35A-H, 03-35J-N, 03-36A-C, 03-36E-H, 03-36J-N, 03-36R, 03-37, 15036, 03-44A-D, 03-46, 03-47, 03-49, 03-88, 03-89, 03-90

Reasons: Secured Area

241 Bldgs.

Tonopah Test Range

Tonopah Co: Nye NV 89049

Landholding Agency: Energy

Property Number: 41200440036

Status: Excess

Reasons: Secured Area, Within 2000 ft. of flammable or explosive material

Unsuitable Properties

Building

Nevada

10 Bldgs.

Nevada Test Site

Mercury Co: Nye NV 89023

Landholding Agency: Energy

Property Number: 41200610003

Status: Excess

Reasons: Secured Area

3 Bldgs.

Nevada Test Site 23-790, 06-CP50, 26-2107

Mercury Co: Nye NV 89023

Landholding Agency: Navy

Property Number: 77200510025

Status: Excess

Reasons: Secured Area, Other—contamination

New Jersey

NIKE Site PH58

Paulsboro Road

Woolwich Township NJ 08085

Landholding Agency: GSA

Property Number: 54200630017

Status: Excess

GSA Number: 1-G-NJ-0538

Reasons: Extensive deterioration, Within 2000 ft. of flammable or explosive material

Unsuitable Properties

Building

New Mexico

Bldgs. 9252, 9268

Kirtland Air Force Base

Albuquerque Co: Bernalillo NM 87185

Landholding Agency: Energy

Property Number: 41199430002

Status: Unutilized

Reasons: Extensive deterioration

Tech Area II

Kirtland Air Force Base

Albuquerque Co: Bernalillo NM 87105

Landholding Agency: Energy

Property Number: 41199630004

Status: Unutilized

Reasons: Extensive deterioration, Secured Area Within 2000 ft. of flammable or explosive material

Bldg. 26, TA-33

Los Alamos National Laboratory

Los Alamos NM 87545

Landholding Agency: Energy

Property Number: 41199810004

Status: Unutilized

Reasons: Extensive deterioration, Secured Area

Bldg. 2, TA-21

Los Alamos National Laboratory

Los Alamos NM 87545

Landholding Agency: Energy

Property Number: 41199810008

Status: Underutilized

Reasons: Secured Area

Unsuitable Properties

Building

New Mexico

Bldg. 5, TA-21

Los Alamos National Laboratory

Los Alamos NM 87545

Landholding Agency: Energy

Property Number: 41199810011

Status: Unutilized

Reasons: Secured Area

Bldg. 116, TA-21

Los Alamos National Laboratory

Los Alamos NM 87545

Landholding Agency: Energy

Property Number: 41199810013

Status: Unutilized

Reasons: Secured Area

Bldg. 286, TA-21

Los Alamos National Laboratory

Los Alamos NM 87545

Landholding Agency: Energy

Property Number: 41199810016

Status: Unutilized

Reasons: Secured Area

Bldg. 516, TA-16

Los Alamos National Laboratory

Los Alamos NM 87545

Landholding Agency: Energy

Property Number: 41199810021

Status: Unutilized

Reasons: Extensive deterioration, Secured Area, Within 2000 ft. of flammable or explosive material

Unsuitable Properties

Building

New Mexico

Bldg. 517, TA-16

Los Alamos National Laboratory

Los Alamos NM 87545

Landholding Agency: Energy

Property Number: 41199810022

Status: Unutilized

Reasons: Extensive deterioration, Secured Area, Within 2000 ft. of flammable or explosive material

Bldg. 31

Los Alamos National Lab

Los Alamos NM 87545

Landholding Agency: Energy

Property Number: 41199930003

Status: Unutilized

Reasons: Extensive deterioration, Secured Area

Bldg. 38, TA-14

Los Alamos National Lab

Los Alamos NM 87545

Landholding Agency: Energy

Property Number: 41199940004

Status: Unutilized

Reasons: Extensive deterioration, Secured Area

Bldg. 9, TA-15

Los Alamos National Lab

Los Alamos NM 87545

Landholding Agency: Energy

Property Number: 41199940006

Status: Unutilized

Reasons: Secured Area

Unsuitable Properties

Building

New Mexico

Bldg. 141, TA-15

Los Alamos National Lab

Los Alamos NM 87545

Landholding Agency: Energy

Property Number: 41199940008

Status: Unutilized

Reasons: Secured Area

Bldg. 44, TA-15

Los Alamos National Lab

Los Alamos NM 87545

Landholding Agency: Energy

Property Number: 41199940009

Status: Unutilized

Reasons: Secured Area

Bldg. 2, TA-18

Los Alamos National Lab

Los Alamos NM 87545

Landholding Agency: Energy

Property Number: 41199940010

Status: Unutilized

Reasons: Extensive deterioration, Secured Area

Bldg. 5, TA-18

Los Alamos National Lab

Los Alamos NM 87545

Landholding Agency: Energy

Property Number: 41199940011

Status: Unutilized

Reasons: Extensive deterioration, Secured Area

Unsuitable Properties

Building

New Mexico

Bldg. 186, TA-18

Los Alamos National Lab

Los Alamos NM 87545

Landholding Agency: Energy

Property Number: 41199940012

Status: Unutilized

Reasons: Extensive deterioration, Secured Area

Bldg. 188, TA-18

Los Alamos National Lab

Los Alamos NM 87545

Landholding Agency: Energy

Property Number: 41199940013

Status: Unutilized

Reasons: Extensive deterioration, Secured Area

Bldg. 44, TA-36

Los Alamos National Lab

Los Alamos NM 87545

Landholding Agency: Energy

Property Number: 41199940015

Status: Unutilized

Reasons: Extensive deterioration, Secured Area

Bldg. 45, TA-36

Los Alamos National Lab

Los Alamos NM 87545

Landholding Agency: Energy

Property Number: 41199940016

Status: Unutilized

Reasons: Extensive deterioration, Secured Area

Unsuitable Properties

Building

New Mexico

Bldg. 258, TA-46

Los Alamos National Lab

Los Alamos NM 87545

Landholding Agency: Energy

Property Number: 41199940019

Status: Unutilized

Reasons: Extensive deterioration, Secured Area

TA-3, Bldg. 208

Los Alamos National Lab

Los Alamos NM 87545

Landholding Agency: Energy

Property Number: 41200010010

Status: Unutilized

Reasons: Extensive deterioration, Secured Area

TA-14, Bldg. 5

Los Alamos National Lab

Los Alamos NM 87545

Landholding Agency: Energy

Property Number: 41200010019

Status: Unutilized

Reasons: Secured Area

TA-21, Bldg. 150

Los Alamos National Lab

Los Alamos NM 87545

Landholding Agency: Energy

Property Number: 41200010020

Status: Unutilized

Reasons: Secured Area

Unsuitable Properties

Building

New Mexico

Bldg. 149, TA-21

Los Alamos National Lab

Los Alamos NM 87545

Landholding Agency: Energy

Property Number: 41200010024

Status: Unutilized

Reasons: Secured Area

Bldg. 312, TA-21

Los Alamos National Lab

Los Alamos NM 87545

Landholding Agency: Energy

Property Number: 41200010025

Status: Unutilized

Reasons: Secured Area

Bldg. 313, TA-21

Los Alamos National Lab

Los Alamos NM 87545

Landholding Agency: Energy

Property Number: 41200010026

Status: Unutilized

Reasons: Secured Area

Bldg. 314, TA-21

Los Alamos National Lab

Los Alamos NM 87545

Landholding Agency: Energy

Property Number: 41200010027

Status: Unutilized

Reasons: Secured Area

Unsuitable Properties

Building

New Mexico

Bldg. 315, TA-21

Los Alamos National Lab

Los Alamos NM 87545

Landholding Agency: Energy

Property Number: 41200010028

Status: Unutilized

Reasons: Secured Area

Bldg. 1, TA-8

Los Alamos National Lab

Los Alamos NM 87545

Landholding Agency: Energy

Property Number: 41200010029

Status: Unutilized

Reasons: Secured Area

Bldg. 2, TA-8

Los Alamos National Lab

Los Alamos NM 87545

Landholding Agency: Energy

Property Number: 41200010030

Status: Unutilized

Reasons: Extensive deterioration, Secured Area

Bldg. 3, TA-8

Los Alamos National Lab

Los Alamos NM 87545

Landholding Agency: Energy

Property Number: 41200020001

Status: Unutilized

Reasons: Extensive deterioration, Secured Area

Unsuitable Properties

Building

New Mexico

Bldg. 51, TA-9

Los Alamos National Lab

Los Alamos NM 87545

Landholding Agency: Energy

Property Number: 41200020002

Status: Unutilized

Reasons: Secured Area

Bldg. 30, TA-14

Los Alamos National Lab

Los Alamos NM 87545

Landholding Agency: Energy

Property Number: 41200020003

Status: Unutilized

Reasons: Secured Area

Bldg. 16, TA-3

Los Alamos National Lab

Los Alamos NM 87545

Landholding Agency: Energy

Property Number: 41200020009

Status: Unutilized

Reasons: Secured Area

Bldg. 48, TA-55

Los Alamos National Lab

Los Alamos NM 87545

Landholding Agency: Energy

Property Number: 41200020017

Status: Unutilized

Reasons: Secured Area

Unsuitable Properties

Building

New Mexico

Bldg. 125, TA-55

Los Alamos National Lab

Los Alamos NM 87545

Landholding Agency: Energy

Property Number: 41200020018

Status: Unutilized

Reasons: Secured Area

Bldg. 162, TA-55

Los Alamos National Lab

Los Alamos NM 87545

Landholding Agency: Energy

Property Number: 41200020019

Status: Unutilized

Reasons: Secured Area

Bldg. 22, TA-33

Los Alamos National Lab

Los Alamos NM 87545

Landholding Agency: Energy

Property Number: 41200020022

Status: Unutilized

Reasons: Extensive deterioration, Secured Area

Bldg. 23, TA-49

Los Alamos National Lab

Los Alamos NM 87545

Landholding Agency: Energy

Property Number: 41200020023

Status: Unutilized

Reasons: Secured Area

Unsuitable Properties

Building

New Mexico

Bldg. 37, TA-53

Los Alamos National Lab

Los Alamos NM 87545

Landholding Agency: Energy

Property Number: 41200020024

Status: Unutilized

Reasons: Secured Area

Bldg. 121, TA-49

Los Alamos National Lab

Los Alamos NM 87545

Landholding Agency: Energy

Property Number: 41200020025

Status: Unutilized

Reasons: Secured Area

Bldg. B117

Kirtland Operations

Albuquerque Co: Bernalillo NM 87117

Landholding Agency: Energy

Property Number: 41200220032

Status: Excess

Reasons: Extensive deterioration

Bldg. B118

Kirtland Operations

Albuquerque Co: Bernalillo NM 87117

Landholding Agency: Energy

Property Number: 41200220033

Status: Excess

Reasons: Extensive deterioration

Unsuitable Properties

Building

New Mexico

Bldg. B119

Kirtland Operations

Albuquerque Co: Bernalillo NM 87117

Landholding Agency: Energy

Property Number: 41200220034

Status: Excess

Reasons: Extensive deterioration

Bldg. 2, TA-11

Los Alamos National Lab

Los Alamos NM 87545

Landholding Agency: Energy

Property Number: 41200240004

Status: Unutilized

Reasons: Secured Area

Bldg. 4, TA-41

Los Alamos National Lab

Los Alamos NM 87545

Landholding Agency: Energy

Property Number: 41200240005

Status: Unutilized

Reasons: Secured Area

Bldg. 116, TA-21

Los Alamos National Lab

Los Alamos NM 87545

Landholding Agency: Energy

Property Number: 41200310003

Status: Unutilized

Reasons: Secured Area

Unsuitable Properties

Building

New Mexico

Bldgs. 1, 2, 3, 4, 5, TA-28

Los Alamos National Lab

Los Alamos NM 87545

Landholding Agency: Energy

Property Number: 41200310004

Status: Unutilized

Reasons: Secured Area

Bldgs. 447, 1483

Los Alamos Natl Laboratory

Los Alamos NM

Landholding Agency: Energy

Property Number: 41200410002

Status: Excess

Reasons: Extensive deterioration, Secured Area

Bldg. 99650

Sandia National Laboratory

Albuquerque Co: Bernalillo NM 87185

Landholding Agency: Energy

Property Number: 41200510004

Status: Unutilized

Reasons: Secured Area

Unsuitable Properties

Building

New York

Building 1

Scotia Navy Depot

Scotia NY 12302

Landholding Agency: GSA

Property Number: 54200710013

Status: Excess

GSA Number: 1-N-NY-0926-1A

Reasons: Within 2000 ft. of flammable or explosive material

North Carolina

Bldg. 82

Marine Corps Air Station

Cherry Point Co: Craven NC 28533

Landholding Agency: Navy

Property Number: 77200510009

Status: Underutilized

Reasons: Secured Area

Bldg. 4314

Marine Corps Air Station

Cherry Point Co: Craven NC 28533

Landholding Agency: Navy

Property Number: 77200510010

Status: Underutilized

Reasons: Secured Area

Bldg. 124

Marine Corps Air Station

Cherry Point Co: Craven NC 28533

Landholding Agency: Navy

Property Number: 77200510023

Status: Underutilized

Reasons: Secured Area

Unsuitable Properties

Building

North Carolina

Bldgs. 73, 95, 1018

Marine Corps Air Station

Cherry Point NC

Landholding Agency: Navy

Property Number: 77200620003

Status: Unutilized

Reasons: Secured Area

Bldg. 499

Marine Corps Air Station

Cherry Point NC

Landholding Agency: Navy

Property Number: 77200620038

Status: Unutilized

Reasons: Secured Area

Bldgs. 3177, 3885

Marine Corps Air Station

Cherry Point NC

Landholding Agency: Navy

Property Number: 77200620039

Status: Unutilized

Reasons: Secured Area

Bldg. 4473

Marine Corps Air Station

Cherry Point NC

Landholding Agency: Navy

Property Number: 77200620040

Status: Unutilized

Reasons: Secured Area

Unsuitable Properties

Building

North Carolina

Bldg. 4523

Marine Corps Air Station

Cherry Point NC

Landholding Agency: Navy

Property Number: 77200620041

Status: Unutilized

Reasons: Secured Area

RPFN 0S1

Group Cape Hatteras

Buxton Co: Dare NC 27902

Landholding Agency: Coast Guard

Property Number: 88200540001

Status: Unutilized

Reasons: Secured Area Extensive deterioration

RPFN 053

Sector N.C.

Atlantic Beach Co: Carteret NC 28512

Landholding Agency: Coast Guard

Property Number: 88200540002

Status: Unutilized

Reasons: Secured Area Extensive deterioration

Equip. Bldg.

Coast Guard Station 11101 Station St.

Emerald Isle NC

Landholding Agency: Coast Guard

Property Number: 88200630001

Status: Unutilized

Reasons: Secured Area

Unsuitable Properties

Building

North Carolina

Bldg. 9

VA Medical Center 1100 Tunnel Road

Asheville Co: Buncombe NC 28805

Landholding Agency: VA

Property Number: 97199010008

Status: Unutilized

Reasons: Extensive deterioration

Ohio

Bldg. 105

VA Medical Center

Dayton Co: Montgomery OH 45428

Landholding Agency: VA

Property Number: 97199920005

Status: Unutilized

Reasons: Extensive deterioration

Pennsylvania

Z-Bldg.

Bettis Atomic Power Lab

West Mifflin Co: Allegheny PA 15122-0109

Landholding Agency: Energy

Property Number: 41199720002

Status: Excess

Reasons: Extensive deterioration

Unsuitable Properties

Building

South Carolina

Bldg. 701-6G

Jackson Barricade

Jackson SC

Landholding Agency: Energy

Property Number: 41200420010

Status: Unutilized

Reasons: Secured Area

Bldg. 211-000F

Nuclear Materials Processing Facility

Aiken SC 29802

Landholding Agency: Energy

Property Number: 41200420011

Status: Excess

Reasons: Secured Area

Bldg. 221-001F

Nuclear Materials Processing Facility

Aiken SC 29802

Landholding Agency: Energy

Property Number: 41200420015

Status: Excess

Reasons: Secured Area

Bldg. 190-K

Savannah River Operations

Aiken SC 29802

Landholding Agency: Energy

Property Number: 41200420030

Status: Unutilized

Reasons: Secured Area

Unsuitable Properties

Building

South Carolina

Bldg. 190-P

Savannah River Operations

Aiken SC 29802

Landholding Agency: Energy

Property Number: 41200420031

Status: Unutilized

Reasons: Secured Area

Bldg. 710-015N

Savannah River Operations

Aiken SC 29802

Landholding Agency: Energy

Property Number: 41200430002

Status: Excess

Reasons: Secured Area

Bldg. 713-000N

Savannah River Operations

Aiken SC 29802

Landholding Agency: Energy

Property Number: 41200430003

Status: Excess

Reasons: Secured Area

Bldgs. 80-9G, 10G

Savannah River Operations

Aiken SC 29802

Landholding Agency: Energy

Property Number: 41200430006

Status: Excess

Reasons: Secured Area

Unsuitable Properties

Building

South Carolina

Bldgs. 105-P, 105-R

Savannah River Operations

Aiken SC 29802

Landholding Agency: Energy

Property Number: 41200430007

Status: Excess

Reasons: Secured Area

Bldg. 183-003L

Savannah River Operations

Aiken SC 29802

Landholding Agency: Energy

Property Number: 41200430009

Status: Excess

Reasons: Secured Area

Bldg. 191-000L

Savannah River Operations

Aiken SC 29802

Landholding Agency: Energy

Property Number: 41200430012

Status: Excess

Reasons: Secured Area

Bldg. 221-016F

Savannah River Operations

Aiken SC 29802

Landholding Agency: Energy

Property Number: 41200430014

Status: Excess

Reasons: Secured Area

Unsuitable Properties

Building

South Carolina

Bldgs. 221-053F, 054F

Savannah River Operations

Aiken SC 29802

Landholding Agency: Energy

Property Number: 41200430016

Status: Excess

Reasons: Secured Area

Bldgs. 252-003F, 005F

Savannah River Operations

Aiken SC 29802

Landholding Agency: Energy

Property Number: 41200430017

Status: Excess

Reasons: Secured Area

Bldg. 315-M

Savannah River Operations

Aiken SC 29802

Landholding Agency: Energy

Property Number: 41200430030

Status: Excess

Reasons: Secured Area

Bldg. 716-002A

Savannah River Operations

Aiken SC 29802

Landholding Agency: Energy

Property Number: 41200430040

Status: Excess

Reasons: Secured Area

Unsuitable Properties

Building

South Carolina

Bldgs. 221-21F, 22F

Savannah River Operations

Aiken SC 29802

Landholding Agency: Energy

Property Number: 41200430042

Status: Excess

Reasons: Secured Area

Bldg. 221-033F

Savannah River Operations

Aiken SC 29802

Landholding Agency: Energy

Property Number: 41200430043

Status: Excess

Reasons: Secured Area

Bldg. 254-007F

Savannah River Operations

Aiken SC 29802

Landholding Agency: Energy

Property Number: 41200430044

Status: Excess

Reasons: Secured Area

Bldg. 281-001F

Savannah River Operations

Aiken SC 29802

Landholding Agency: Energy

Property Number: 41200430045

Status: Excess

Reasons: Secured Area

Unsuitable Properties

Building

South Carolina

Bldg. 281-004F

Savannah River Operations

Aiken SC 29802

Landholding Agency: Energy

Property Number: 41200430046

Status: Excess

Reasons: Secured Area

Bldg. 281-006F

Savannah River Operations

Aiken SC 29802

Landholding Agency: Energy

Property Number: 41200430047

Status: Excess

Reasons: Secured Area

Bldg. 703-045A

Savannah River Operations

Aiken SC 29802

Landholding Agency: Energy

Property Number: 41200430050

Status: Excess

Reasons: Secured Area

Bldg. 703-071A

Savannah River Operations

Aiken SC 29802

Landholding Agency: Energy

Property Number: 41200430051

Status: Excess

Reasons: Secured Area

Unsuitable Properties

Building

South Carolina

Bldg. 716-A

Savannah River Operations

Aiken SC 29802

Landholding Agency: Energy

Property Number: 41200430055

Status: Excess

Reasons: Secured Area

Bldg. 754-008A

Savannah River Operations

Aiken SC 29802

Landholding Agency: Energy

Property Number: 41200430058

Status: Excess

Reasons: Secured Area

Bldg. 186-R

Savannah River Site

Aiken SC

Landholding Agency: Energy

Property Number: 41200430063

Status: Unutilized

Reasons: Secured Area

Bldg. 230-H

Savannah River Site

Aiken SC

Landholding Agency: Energy

Property Number: 41200430065

Status: Unutilized

Reasons: Secured Area

Unsuitable Properties

Building

South Carolina

4 Bldgs.

Savannah River Site #281-2F, 281-5F, 285-F, 285-5F

Aiken SC

Landholding Agency: Energy

Property Number: 41200430066

Status: Unutilized

Reasons: Secured Area

Bldg. 701-000M

Savannah River Site

Aiken SC 29802

Landholding Agency: Energy

Property Number: 41200430084

Status: Unutilized

Reasons: Secured Area

Bldg. 608-000P

Savannah River Site

Aiken SC 29802

Landholding Agency: Energy

Property Number: 41200440031

Status: Excess

Reasons: Secured Area

Bldg. 690-000N

Savannah River Site

Aiken SC 29802

Landholding Agency: Energy

Property Number: 41200440032

Status: Underutilized

Reasons: Secured Area

Unsuitable Properties

Building

South Carolina

Facility 701-5G

Savannah River Site

New Ellenton SC

Landholding Agency: Energy

Property Number: 41200530003

Status: Unutilized

Reasons: Extensive deterioration

Bldg. 105-013P

Savannah River Operations

Aiken SC 29802

Landholding Agency: Energy

Property Number: 41200620007

Status: Unutilized

Reasons: Secured Area

Bldg. 714-000A

Savannah River Site

Aiken SC

Landholding Agency: Energy

Property Number: 41200620014

Status: Underutilized

Reasons: Secured Area

Bldgs. 711-000P, 711-001P

Savannah River Site

Aiken SC 29802

Landholding Agency: Energy

Property Number: 41200620015

Status: Excess

Reasons: Secured Area

Unsuitable Properties

Building

South Carolina

Bldg. 777-018A

Savannah River Site

Aiken SC 29802

Landholding Agency: Energy

Property Number: 41200620022

Status: Excess

Reasons: Secured Area

Bldgs. 108-1P, 108-2P

Savannah River Site

Aiken SC 29802

Landholding Agency: Energy

Property Number: 41200630007

Status: Unutilized

Reasons: Secured Area

Bldgs. 108-1P, 108-2P

Savannah River Site

Aiken SC 29802

Landholding Agency: Energy

Property Number: 41200640001

Status: Excess

Reasons: Secured Area

Bldg. 701-001P

Savannah River Site

Aiken SC 29802

Landholding Agency: Energy

Property Number: 41200640002

Status: Unutilized

Reasons: Secured Area

Unsuitable Properties

Building

South Carolina

Bldgs. 105-1P, 105-6P

Savannah River Site

Aiken SC 29802

Landholding Agency: Energy

Property Number: 41200640003

Status: Unutilized

Reasons: Secured Area

Bldgs. 151-1P, 151-2P

Savannah River site

Aiken SC 29802

Landholding Agency: Energy

Property Number: 41200640004

Status: Unutilized

Reasons: Secured Area

Bldg. 191-P

Savannah River Site

Aiken SC 29802

Landholding Agency: Energy

Property Number: 41200640005

Status: Unutilized

Reasons: Secured Area

Bldg. 710-P

Savannah River Site

Aiken SC 29802

Landholding Agency: Energy

Property Number: 41200640006

Status: Unutilized

Reasons: Secured Area

Unsuitable Properties

Building

South Carolina

Bldg. 614-63G

Savannah River Site

Aiken SC 29802

Landholding Agency: Energy

Property Number: 41200710006

Status: Unutilized

Reasons: Secured Area

Bldgs. 701-2G, -905-117G

Savannah River Site

Aiken SC 29802

Landholding Agency: Energy

Property Number: 41200710007

Status: Unutilized

Reasons: Secured Area

Bldgs. 1000 thru 1021

Naval Weapons Station

Goose Creek Co: Berkeley SC 29445

Landholding Agency: Navy

Property Number: 77200440018

Status: Unutilized

Reasons: Secured Area

Bldg. 102

Marine Corps Recruit Depot

Parris Island Co: Beaufort SC 29905

Landholding Agency: Navy

Property Number: 77200530017

Status: Unutilized

Reasons: Extensive deterioration, Secured Area, Floodway

Unsuitable Properties

Building

South Carolina

21 Bldgs.

Naval Weapons Station

Goose Creek Co: Berkely SC 29445

Landholding Agency: Navy

Property Number: 77200620034

Status: Unutilized

Directions: 4, 167C, 174, 180, 350, 383, 400, 410, 769, 790, 823, 824, 904, 930, 930A, 953, 953A, 971, 975, 2305, 3526

Reasons: Secured Area Within 2000 ft. of flammable or explosive material

Bldg. 1148

Naval Weapons Station

Goose Creek Co: Berkeley SC 29445

Landholding Agency: Navy

Property Number: 77200630044

Status: Excess

Reasons: Extensive deterioration

Tennessee

Bldg. 3004

Oak Ridge National Lab

Oak Ridge Co: Roane TN 37831

Landholding Agency: Energy

Property Number: 41199710002

Status: Unutilized

Reasons: Secured Area, Extensive deterioration

Unsuitable Properties

Building

Tennessee

Bldgs. 9714-3, 9714-4, 9983-AY Y-12 Pistol Range

Oak Ridge Co: Anderson TN 37831

Landholding Agency: Energy

Property Number: 41199720004

Status: Unutilized

Reasons: Secured Area

5 Bldgs. K-724, K-725, K-1031, K-1131, K-1410

East Tennessee Technology Park

Oak Ridge Co: Roane TN 37831

Landholding Agency: Energy

Property Number: 41199730001

Status: Unutilized

Reasons: Extensive deterioration

Bldg. 9418-1

Y-12 Plant

Oak Ridge Co: Anderson TN 37831

Landholding Agency: Energy

Property Number: 41199810026

Status: Unutilized

Reasons: Extensive deterioration, Secured Area

16 Bldgs.

Oak Ridge Reservation

Oak Ridge Co: Anderson TN 37831

Landholding Agency: Energy

Property Number: 41200620006

Status: Excess

Directions: Freels/Solway Bend Areas

Reasons: Extensive deterioration

Unsuitable Properties

Building

Tennessee

17 Buildings

Naval Support Activity Mid-South Millington TN 38054

Landholding Agency: Navy

Property Number: 77200520012

Status: Excess

Directions: 892-893, 1704, 1487, 2020, 2035, 2044-2045, 2071, 2074, 2079-2082, 2094, 2096, 2063

Reasons: Secured Area

Bldgs. 2, 3, 5

Naval/Marine Corps Rsv Ctr

Knoxville Co: Knox TN 37920

Landholding Agency: Navy

Property Number: 77200530018

Status: Unutilized

Reasons: Extensive deterioration, Secured Area

Texas

Zone 12, Bldg. 12-20

Pantex Plant

Amarillo Co: Carson TX 79120

Landholding Agency: Energy

Property Number: 41200220053

Status: Unutilized

Reasons: Within 2000 ft. of flammable or explosive material Secured Area

Unsuitable Properties

Building

Texas

Bldgs. 12-017E, 12-019E

Pantex Plant

Amarillo Co: Carson TX 79120

Landholding Agency: Energy

Property Number: 41200320010

Status: Unutilized

Reasons: Secured Area, Within 2000 ft. of flammable or explosive material

4 Bldgs.

NNSA Pantex Plant

Amarillo Co: Carson TX 79120

Landholding Agency: Energy

Property Number: 41200540002

Status: Unutilized

Directions: 12-009, 12-009A, 12-R-009A, 12-R-009B

Reasons: Within 2000 ft. of flammable or explosive material, Secured Area

Bldg. 12-011A

NNSA Pantex Plant

Amarillo Co: Carson TX 79120

Landholding Agency: Energy

Property Number: 41200540003

Status: Unutilized

Reasons: Secured Area, Within 2000 ft. of flammable or explosive material

Unsuitable Properties

Building

Texas

Bldg. 12-097

NNSA Pantex Plant

Amarillo Co: Carson TX 79120

Landholding Agency: Energy

Property Number: 41200540004

Status: Unutilized

Reasons: Secured Area Within 2000 ft. of flammable or explosive material

Bldgs. 11-54, 11-54A

Zone 11

Pantex Plant

Amarillo Co: Carson TX 79120

Landholding Agency: Energy

Property Number: 41200630008

Status: Unutilized

Reasons: Within 2000 ft. of flammable or explosive material, Secured Area

Bldg. 12-002B

Zone 12

Pantex Plant

Amarillo Co: Carson TX 79120

Landholding Agency: Energy

Property Number: 41200630009

Status: Unutilized

Reasons: Within 2000 ft. of flammable or explosive material, Secured Area

Unsuitable Properties

Building

Texas

4 Bldgs.

12-003, 12-R-003, 12-003L

Zone 12, Pantex Plant

Amarillo Co: Carson TX 79120

Landholding Agency: Energy

Property Number: 41200630010

Status: Unutilized

Reasons: Secured Area, Within 2000 ft. of flammable or explosive material

Bldg. 12-014

Zone 12

Pantex Plant

Amarillo Co: Carson TX 79120

Landholding Agency: Energy

Property Number: 41200630011

Status: Unutilized

Reasons: Secured Area, Within 2000 ft. of flammable or explosive material

Bldg. 12-24E

Zone 12

Pantex Plant

Amarillo Co: Carson TX 79120

Landholding Agency: Energy

Property Number: 41200630012

Status: Unutilized

Reasons: Secured Area, Within 2000 ft. of flammable or explosive material

Unsuitable Properties

Building

Texas

Bldg. 11-029, Zone 11

Pantex Plant

Amarillo Co: Carson TX 79120

Landholding Agency: Energy

Property Number: 41200640007

Status: Unutilized

Reasons: Secured Area, Within 2000 ft. of flammable or explosive material

Bldg. 1732

Naval Air Station

Corpus Christi Co: Nueces TX

Landholding Agency: Navy

Property Number: 77200540007

Status: Excess

Reasons: Secured Area, Extensive deterioration

Bldg. 243

Naval Air Station Joint Reserve Base

Ft. Worth Co: Tarrant TX 76127

Landholding Agency: Navy

Property Number: 77200640035

Status: Unutilized

Reasons: Secured Area, Extensive deterioration

Bldg. 1430

Naval Air Station Joint Reserve Base

Ft. Worth Co: Tarrant TX 76127

Landholding Agency: Navy

Property Number: 77200640036

Status: Unutilized

Reasons: Secured Area, Extensive deterioration

Unsuitable Properties

Building

Texas

Bldg. 1500

Naval Air Station Joint Reserve Base

Ft. Worth Co: Tarrant TX 76127

Landholding Agency: Navy

Property Number: 77200640037

Status: Unutilized

Reasons: Secured Area, Extensive deterioration

Bldg. 4151

Naval Air Station Joint Reserve Base

Ft. Worth Co: Tarrant TX 76127

Landholding Agency: Navy

Property Number: 77200640038

Status: Unutilized

Reasons: Extensive deterioration, Secured Area

Virginia

Bldg. U63

Naval Amphibious Base

Little Creek Co: Norfolk VA 23521

Landholding Agency: Navy

Property Number: 77200610007

Status: Excess

Reasons: Extensive deterioration

Bldg. 3660

Naval Amphibious Base

Little Creek Co: Norfolk VA 23521

Landholding Agency: Navy

Property Number: 77200610008

Status: Excess

Reasons: Extensive deterioration

Unsuitable Properties

Building

Virginia

Bldg. 3830

Naval Amphibious Base

Little Creek Co: Norfolk VA 23521

Landholding Agency: Navy

Property Number: 77200610009

Status: Excess

Reasons: Extensive deterioration

Bldgs. 500, 501

Naval Weapon Station

Yorktown VA 23691

Landholding Agency: Navy

Property Number: 77200640012

Status: Excess

Reasons: Extensive deterioration

Bldg. 628

Naval Weapon Station

Yorktown VA 23691

Landholding Agency: Navy

Property Number: 77200640013

Status: Excess

Reasons: Extensive deterioration

Training Bldg.

USCG Integrated Support Ctr

Portsmouth Co: Norfolk VA 43703

Landholding Agency: Coast Guard

Property Number: 88200530001

Status: Excess

Reasons: Secured Area

Unsuitable Properties

Building

Virginia

Bldg. 011

Integrated Support Center

Portsmouth Co: Norfolk VA 43703

Landholding Agency: Coast Guard

Property Number: 88200620002

Status: Excess

Reasons: Secured Area

Washington

79 Structures

Hanford Site 100, 300, 400

Richland Co: Benton WA 99352

Landholding Agency: Energy

Property Number: 41200620010

Status: Excess

Directions: Infrastructure Facilities

Reasons: Secured Area

87 Structures

Hanford Site 100, 300, 400

Richland Co: Benton WA 99351

Landholding Agency: Energy

Property Number: 41200620011

Status: Excess

Directions: Mobile Offices

Reasons: Secured Area

Unsuitable Properties

Building

Washington

139 Structures

Hanford Site 100, 300, 400

Richland Co: Benton WA 99352

Landholding Agency: Energy

Property Number: 41200620012

Status: Excess

Directions: Offices Facilities

Reasons: Secured Area

122 Structures

Hanford Site 100, 300, 400

Richland Co: Benton WA 99352

Landholding Agency: Energy

Property Number: 41200620013

Status: Excess

Directions: Process Facilities

Reasons: Secured Area

Bldgs. 128, 129

Yakima Project

Yakima WA 98901

Landholding Agency: Interior

Property Number: 61200630018

Status: Excess

Reasons: Extensive deterioration

Bldgs. 0304, 0305

22416 Road F NE

Soap Lake Co: Grant WA 98851

Landholding Agency: Interior

Property Number: 61200640003

Status: Excess

Reasons: Extensive deterioration

Unsuitable Properties

Building

Washington

Bldgs. 0801, 0804

Frontage Road

West Quincy Co: Grant WA 98848

Landholding Agency: Interior

Property Number: 61200640004

Status: Excess

Reasons: Extensive deterioration

Bldgs. 1202, 1203

S. Maple

Warden Co: Grant WA 98857

Landholding Agency: Interior

Property Number: 61200640005

Status: Excess

Reasons: Extensive deterioration

Bldgs. 1702, 1707

Highway Heights

Mesa Co: Franklin WA 99343

Landholding Agency: Interior

Property Number: 61200640006

Status: Excess

Reasons: Extensive deterioration

Bldg. 1806

Klamath Road

Mesa Co: Franklin WA 99343

Landholding Agency: Interior

Property Number: 61200640007

Status: Excess

Reasons: Extensive deterioration

Unsuitable Properties

Building

Washington

Bldg. 529

Puget Sound Naval Shipyard

Bremerton WA 98314-5000

Landholding Agency: Navy

Property Number: 77200040020

Status: Excess

Reasons: Secured Area

Bldg. 8

Naval Reserve Center

Spokane WA 99205

Landholding Agency: Navy

Property Number: 77200430025

Status: Excess

Reasons: Secured Area, Extensive deterioration

Bldgs. 10, 11

Naval Reserve Center

Spokane WA 99205

Landholding Agency: Navy

Property Number: 77200430026

Status: Excess

Reasons: Extensive deterioration, Secured Area

Bldgs. 2656-2658

Naval Air Station

Lake Hancock

Coupeville Co: Island WA 98239

Landholding Agency: Navy

Property Number: 77200430027

Status: Unutilized

Reasons: Secured Area

Unsuitable Properties

Building

Washington

Bldgs. 2652, 2705

Naval Air Station

Whidbey

Oak Harbor WA 98277

Landholding Agency: Navy

Property Number: 77200440010

Status: Unutilized

Reasons: Secured Area

Bldgs. 79, 884

NAS Whidbey Island

Seaplane Base

Oak Harbor WA 98277

Landholding Agency: Navy

Property Number: 77200440011

Status: Unutilized

Reasons: Secured Area

Bldg. 121

NAS Whidbey Island

Ault Field

Oak Harbor WA 98277

Landholding Agency: Navy

Property Number: 77200440012

Status: Unutilized

Reasons: Secured Area

Bldg. 419

NAS Whidbey Island

Ault Field

Oak Harbor WA 98277

Landholding Agency: Navy

Property Number: 77200440013

Status: Unutilized

Reasons: Secured Area

Unsuitable Properties

Building

Washington

Bldgs. 2609, 2610

NAS Whidbey Island

Ault Field

Oak Harbor WA 98277

Landholding Agency: Navy

Property Number: 77200440014

Status: Unutilized

Reasons: Secured Area

Bldg. 2753

NAS Whidbey Island

Ault Field

Oak Harbor WA 98277

Landholding Agency: Navy

Property Number: 77200440015

Status: Unutilized

Reasons: Secured Area

Bldg. 108

Naval Magazine

Port Hadlock Co: Jefferson WA 98339-9723

Landholding Agency: Navy

Property Number: 77200510015

Status: Unutilized

Reasons: Extensive deterioration, Secured Area

Bldg. 351

Puget Sound Naval Shipyard

Bremerton WA 98314

Landholding Agency: Navy

Property Number: 77200530026

Status: Unutilized

Reasons: Secured Area, Within 2000 ft. of flammable or explosive material

Unsuitable Properties

Building

Washington

Bldg. 1032

Naval Base

Bangor Tower Site

Silverdale WA 98315

Landholding Agency: Navy

Property Number: 77200630045

Status: Unutilized

Reasons: Within 2000 ft. of flammable or explosive material, Secured Area

Bldg. 71

Naval Magazine

Port Hadlock Co: Jefferson WA 98339-9723

Landholding Agency: Navy

Property Number: 77200640007

Status: Unutilized

Reasons: Secured Area, Extensive deterioration

Bldgs. 82, 83

Naval Magazine

Port Hadlock Co: Jefferson WA 98339-9723

Landholding Agency: Navy

Property Number: 77200640008

Status: Unutilized

Reasons: Extensive deterioration, Secured Area

Unsuitable Properties

Building

Washington

Bldgs. 168, 188

Naval Magazine

Port Hadlock Co: Jefferson WA 98339-9723

Landholding Agency: Navy

Property Number: 77200640009

Status: Unutilized

Reasons: Extensive deterioration, Secured Area

Bldg. 729

Naval Magazine

Port Hadlock Co: Jefferson WA 98339-9723

Landholding Agency: Navy

Property Number: 77200640010

Status: Unutilized

Reasons: Extensive deterioration, Secured Area

Bldgs. 910, 921

Naval Magazine

Port Hadlock Co: Jefferson WA 98339-9723

Landholding Agency: Navy

Property Number: 77200640011

Status: Unutilized

Reasons: Extensive deterioration, Secured Area

Bldgs. 407, 447

Naval Base

Bremerton Co: Kitsap WA 98310

Landholding Agency: Navy

Property Number: 77200640014

Status: Excess

Reasons: Secured Area

Unsuitable Properties

Building

Washington

Bldg. 867

Naval Base

Bremerton Co: Kitsap WA 98310

Landholding Agency: Navy

Property Number: 77200640015

Status: Excess

Reasons: Secured Area

Bldgs. 937, 975

Naval Base

Bremerton Co: Kitsap WA 98310

Landholding Agency: Navy

Property Number: 77200640016

Status: Excess

Reasons: Secured Area

Bldg. 1449

Naval Base

Silverdale Co: Kitsap WA 98315

Landholding Agency: Navy

Property Number: 77200640017

Status: Unutilized

Reasons: Secured Area

Bldg. 1670

Naval Base

Silverdale Co: Kitsap WA 98315

Landholding Agency: Navy

Property Number: 77200640018

Status: Unutilized

Reasons: Secured Area

Unsuitable Properties

Building

Washington

Bldgs. 2007, 2801

Naval Base

Silverdale Co: Kitsap WA 98315

Landholding Agency: Navy

Property Number: 77200640019

Status: Unutilized

Reasons: Secured Area

Bldgs. 6021, 6095

Naval Base

Silverdale Co: Kitsap WA 98315

Landholding Agency: Navy

Property Number: 77200640020

Status: Unutilized

Reasons: Secured Area

Bldgs. 6606, 6661

Naval Base

Silverdale Co: Kitsap WA 98315

Landholding Agency: Navy

Property Number: 77200640021

Status: Unutilized

Reasons: Secured Area

Bldgs. 726, 727, 734

Naval Undersea Warfare

Keyport Co: Kitsap WA 98345

Landholding Agency: Navy

Property Number: 77200640022

Status: Unutilized

Reasons: Secured Area, Within 2000 ft. of flammable or explosive material

Unsuitable Properties

Building

Washington

Bldgs. 901, 911

Naval Undersea Warfare

Keyport Co: Kitsap WA 98345

Landholding Agency: Navy

Property Number: 77200640023

Status: Unutilized

Reasons: Secured Area, Within 2000 ft. of flammable or explosive material

Bldgs. 925, 938

Naval Undersea Warfare

Keyport Co: Kitsap WA 98345

Landholding Agency: Navy

Property Number: 77200640024

Status: Unutilized

Reasons: Secured Area, Within 2000 ft. of flammable or explosive material

Bldg. 1020

Naval Undersea Warfare

Keyport Co: Kitsap WA 98345

Landholding Agency: Navy

Property Number: 77200640025

Status: Unutilized

Reasons: Within 2000 ft. of flammable or explosive material, Secured Area

Unsuitable Properties

Building

Wisconsin

Station Building

Coast Guard Station

Sheboygan WI

Landholding Agency: Coast Guard

Property Number: 88200610001

Status: Underutilized

Reasons: Secured Area

Bldg. OV1

USCG Station

Bayfield WI 54814

Landholding Agency: Coast Guard

Property Number: 88200620001

Status: Excess

Reasons: Secured Area

Wyoming

Caretakers Residence

Anchor Dam

Thermopolis WY

Landholding Agency: Interior

Property Number: 61200640009

Status: Excess

Reasons: Extensive deterioration

Storage Bldg.

Anchor Dam

Thermopolis WY

Landholding Agency: Interior

Property Number: 61200640010

Status: Excess

Reasons: Extensive deterioration

Unsuitable Properties

Land

Arizona

58 acres

VA Medical Center

500 Highway 89 North

Prescott Co: Yavapai AZ 86313

Landholding Agency: VA

Property Number: 97190630001

Status: Unutilized

Reasons: Floodway

20 acres

VA Medical Center

500 Highway 89 North

Prescott Co: Yavapai AZ 86313

Landholding Agency: VA

Property Number: 97190630002

Status: Underutilized

Reasons: Floodway

California

Trailer Space

Naval Base

San Diego CA

Landholding Agency: Navy

Property Number: 77200520013

Status: Unutilized

Reasons: Secured Area

Parcels 1, 2, 3, 4

Naval Base

Port Hueneme Co: Ventura CA 93043

Landholding Agency: Navy

Property Number: 77200630003

Status: Underutilized

Reasons: Secured Area

Unsuitable Properties

Land

California

Parcels 11, 12, 13, 14, 15

Naval Base

Port Hueneme Co: Ventura CA 93043

Landholding Agency: Navy

Property Number: 77200630004

Status: Underutilized

Reasons: Secured Area

Colorado

0.21 acre

Section 20

Bayfield Co: La Plata CO 81122

Landholding Agency: Interior

Property Number: 61200640001

Status: Excess

Reasons: Other—not accessible

Florida

Wildlife Sanctuary, VAMC

10,000 Bay Pines Blvd.

Bay Pines Co: Pinellas FL 33504

Landholding Agency: VA

Property Number: 97199230004

Status: Underutilized

Reasons: Other—Inaccessible

Unsuitable Properties

Land

Minnesota

3.85 acres (Area #2)

VA Medical Center

4801 8th Street

St. Cloud Co: Stearns MN 56303

Landholding Agency: VA

Property Number: 97199740004

Status: Unutilized

Reasons: Other—landlocked

7.48 acres (Area #1)

VA Medical Center

4801 8th Street

St. Cloud Co: Stearns MN 56303

Landholding Agency: VA

Property Number: 97199740005

Status: Underutilized

Reasons: Secured Area

Montana

Sewage Lagoons/40 acres

VA Center

Ft. Harrison MT 59639

Landholding Agency: VA

Property Number: 97200340007

Status: Excess

Reasons: Floodway

Unsuitable Properties

Land

New York

Tract 1

VA Medical Center

Bath Co: Steuben NY 14810

Landholding Agency: VA

Property Number: 97199010011

Status: Unutilized

Directions: Exit 38 off New York State Route 17.

Reasons: Secured Area

Tract 2

VA Medical Center

Bath Co: Steuben NY 14810

Landholding Agency: VA

Property Number: 97199010012

Status: Underutilized

Directions: Exit 38 off New York State Route 17.

Reasons: Secured Area

Tract 3

VA Medical Center

Bath Co: Steuben NY 14810

Landholding Agency: VA

Property Number: 97199010013

Status: Underutilized

Directions: Exit 38 off New York State Route 17.

Reasons: Secured Area

Unsuitable Properties

Land

New York

Tract 4

VA Medical Center

Bath Co: Steuben NY 14810

Landholding Agency: VA

Property Number: 97199010014

Status: Unutilized

Directions: Exit 38 off New York State Route 17.

Reasons: Secured Area

Washington

405 sq. ft./Land

Naval Base Kitsap

Bangor WA

Landholding Agency: Navy

Property Number: 77200520060

Status: Unutilized

Reasons: Secured Area

230 sq. ft. land

Naval Magazine

Indian Island WA

Landholding Agency: Navy

Property Number: 77200620037

Status: Underutilized

Reasons: Within 2000 ft. of flammable or explosive material, Secured Area

Summary for Unsuitable Properties

Total number of Properties 1416

[FR Doc. E7-3525 Filed 3-1-07; 8:45 am]

BILLING CODE 4210-67-P